DEPARTMENT OF HOMELAND SECURITY

Coast Guard

33 CFR Parts 1, 3, 6, 13, 72, 80, 83, 101, 103, 104, 105, 106, 110, 114, 115, 116, 117, 118, 133, 136, 138, 148, 149, 150, 151, 161, 164, and 165

[Docket No. USCG-2013-0397]

RIN 1625-AC06

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable waters regulations. These changes will have no substantive effect on the regulated public. This rule is provided to coincide with the annual recodification of Title 33 on July 1, 2013.

DATES: This final rule is effective July 1, 2013.

ADDRESSES: Documents mentioned in this preamble as being available in the docket are part of docket USCG-2013-0397 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0397 in the “Search” box, and then clicking “Search.”

FOR FURTHER INFORMATION CONTACT: If you have questions on this rule, call or email Mr. Paul Crissy, Coast Guard; telephone 202-372-1093, email Paul.H.Crissy@uscg.mil. If you have questions on viewing the docket, call Ms. Barbara Hairston, Program Manager, Docket Operations, telephone 202-366-9826.

SUPPLEMENTARY INFORMATION:

Table of Contents for Preamble

I. Abbreviations

II. Regulatory History

III. Background and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

DHS Department of Homeland Security

CFR Code of Federal Regulations

DOT Department of Transportation

E.O. Executive Order

FR Federal Register

HSAS Homeland Security Alignment System

MARSEC Maritime Security

NAD North American Datum

NTAS National Terrorism Advisory System

OMB Office of Management and Budget

OFR Office of the Federal Register

Pub. L. Public Law

U.S.C. United States Code

II. Regulatory History

We did not publish a notice of proposed rulemaking for this rule. Under 5 U.S.C. 553(b)(A), the Coast Guard finds this rule is exempt from notice and comment rulemaking requirements because these changes involve rules of agency organization, procedure, or practice. In addition, the Coast Guard finds notice and comment procedures are unnecessary under 5 U.S.C. 553(b)(B) as this rule consists only of corrections and editorial, organizational, and conforming amendments and these changes will have no substantive effect on the public. Under 5 U.S.C. 553(d)(3), the Coast Guard finds that, for the same reasons, good cause exists for making this rule effective upon publication in the Federal Register.

III. Background and Purpose

Each year, the printed edition of Title 33 of the Code of Federal Regulations (CFR) is recodified on July 1. This rule, which is effective July 1, 2013, makes technical and editorial corrections throughout Title 33. This rule does not create any substantive requirements. This rule is issued under the authority of 5 U.S.C. 552, 553, App. 2; 14 U.S.C. 2, 631, 632, and 633; 33 U.S.C. 471, 499; 49 U.S.C. 101, 322; Department of Homeland Security Delegation No. 0170.1.

IV. Discussion of the Rule

This rule amends § 1.05(j) to reflect changes in agency organization by correctly identifying District Bridge Managers by their appropriate title. Specifically, this change replaces the term “Bridge Program Chief”, which is no longer used in the Coast Guard, with “District Bridge Manager.”

Additionally, this rule updates § 1.05-10 to reflect changes in agency organization, noting that District Bridge Managers also have the authority to issue rules of local applicability with regard to temporary deviations to drawbridge operating schedules. This rule also edits the section by correcting a non-substantive typographical error in the first sentence, replacing a comma with a period.

This rule amends 33 CFR part 3 to reflect changes in agency organization by creating and defining Coast Guard sectors that exercise specific Search and Rescue Mission Coordinator authority over a designated portion of an encompassing sector's area of responsibility. Revisions to this part also accommodate these newly-designated Search and Rescue Coordinator Zones in parts that discuss sector authorities and divisions. Specifically, in § 3.55-25, the Coast Guard established a Search and Rescue Missions Coordinator Zone for an area near Humboldt Bay in California. Additionally, the Coast Guard established the same authority for a new sector in North Bend, Oregon.

This rule amends § 6.01-3 to make the regulation defining a Captain of the Port gender neutral. The new language indicates that a Captain of the Port may be male or female, replacing outdated language referring to Captains of the Port using only male gender designations.

This rule amends § 13.01-15(d) to correct a reference to an outdated publication. In § 13.01-15, the regulation previously referenced a Manual for Courts-Martial that no longer exists. Pertinent sections from that manual have been incorporated into a new publication, the Administrative Investigations Manual, also known as Commandant Instruction M5830.1A (2007). Additionally, § 13.01 has been updated to reflect the new reference.

This rule amends 33 CFR part 72 in order to correctly state the means by which the Coast Guard issues the Local Notice to Mariners (LNM). Because the Coast Guard no longer mails out the LNM, § 72.01-10(b) and (c) have been updated with two links: (1) A direct link to the latest LNM, and (2) a link to subscribe to an email distribution list that disseminates the LNM when new editions become available. The link previously listed in the Note to § 72.01-5 has been removed, updated, and moved to paragraph (b) as discussed above.

Additionally, this rule amends § 72.01-10(b), (c), and Note to reflect the updated language in the LNM indicating the agencies that work together to prepare the publication. Specifically, the National Imagery and Mapping Agency changed its name to the National Geospatial-Intelligence Agency. This rule removes the references to printed versions of the LNM in § 72.01-10(c). In place of paragraph (c) is an updated link to the National Geospatial-Intelligence Agency's Web site that directs readers to digital copies of the LNM. The Note to § 72.01-10 has been removed because it is an outdated link and a corrected link has been incorporated into paragraph (c) as discussed above.

Further, this rule amends § 72.01-25 to update ways in which readers can access, purchase, and download navigational aids referenced within this part. This rule removes a reference to the Government Printing Office in paragraph (b), which no longer sells Radio Navigational Aids, but replaces it with a link where readers can purchase the Aids. This rule also updates links in paragraph (c) to indicate where readers can purchase the United States Coast Pilot publication or download electronic charts from the Federal Aviation Administration and the National Oceanic and Atmospheric Administration.

This rule removes § 72.01-35 because it is no longer relevant or applicable. Because the Local Notice to Mariners is no longer published and mailed to those who request it, this section is removed to avoid confusion when reading 33 CFR part 72.

This rule also amends § 72.01-40(c) to reflect the new title of the National Geospatial-Intelligence Agency. This section previously referred to that agency by its outdated agency title, the National Imagery and Mapping Agency.

This rule amends the Note to § 72.05-5 to update the Government Printing Office address from which readers may order volumes of the Light List publication. This change will provide readers with an accurate address and avoids confusion amongst those who wish to order a copy of the Light List.

This rule revises the Note to § 72.05-10 to provide an updated link to access the Coast Guard Light List on the Internet. This rule replaces that link with the current Coast Guard link.

This rule amends § 80.110(b) and § 80.115(b) to correct non-substantive typographical errors in latitude positions. For consistency, this rule inserts a comma after the latitude coordinates. This rule does not change the coordinates themselves in either of the two sections.

This rule amends § 80.120(b) to make a non-substantive update and grammatical correction. The title of the lighthouse referenced in this paragraph has been updated to reflect the current, correct title for the lighthouse used as a reference point. Additionally, this rule inserts a comma after the latitude coordinates. This rule does not change the coordinates themselves.

This rule amends §§ 80.145, 80.501(d), and 80.505(c) to correct non-substantive typographical errors in latitude positions. Specifically, for consistency, this rule inserts a comma after the latitude coordinates in each particular paragraph. This rule does not change the coordinates themselves in any of these sections.

This rule corrects § 80.520(a) to reflect the correct latitude and longitude of the Hatteras Inlet Lookout Tower. The previous language in this paragraph erroneously identified the coordinates for the Hatteras Inlet Lookout Tower. The text has been updated with the correct latitude and longitude coordinates as follows: “latitude 35°11.85′ N., longitude 75°43.9′ W. 255° true to the eastern end of Ocracoke Island.”

This rule amends § 80.520 paragraphs (a) and (b) to correct a non-substantive typographical error. Specifically, for consistency, this rule inserts a comma after the latitude coordinates in each particular paragraph. This rule does not change the coordinates themselves.

This rule amends § 80.525(c) and (d) to correct a non-substantive typographical error. Specifically, for consistency, this rule inserts a comma after the latitude coordinates in each particular paragraph. This rule does not change the coordinates themselves.

This rule removes latitude and longitude points in § 80.525(e) and replaces them with more precise reference points. The reference points previously noted with coordinates have eroded, causing many of the points to disappear. The new reference language is general enough to provide a meaningful reference point while adapting to areas where erosion has noticeably affected the shoreline.

This rule amends § 80.530(a) to correct a non-substantive typographical error in latitude position. Specifically, for consistency, this rule inserts a comma after the latitude coordinate. This rule does not change the coordinate itself.

This rule amends § 80.703(f) to clarify a COLREGS demarcation line because the previous description refers to a line of longitude that no longer depicts a point of land easily discernible to mariners. This paragraph now refers to the demarcation line based on points that rely upon the physical body of land itself, and that no longer reference a particular line of longitude.

This rule amends § 80.707(a) to correct a reference point that is misleading due to shoaling in the area. Because shoaling affected the shoreline referenced in this paragraph, the bearing previously cited is no longer useful. The new text uses reference points that rely on the land itself instead of directional references.

This rule also amends § 80.707(b) to correct and update references mentioned in this paragraph. Particularly, Sandy Point is no longer a viable reference point as shoaling has affected it. As such, the rule extends the demarcation line accordingly.

This rule amends § 80.712 to remove an outdated reference to an aid to navigation and to correct a non-substantive typographical error. The language in § 80.712(a) is updated to remove reference to an aid to navigation that has been removed.

This rule amends § 80.712(f) to correct non-substantive typographical errors in the latitude positions. Specifically, for consistency, this rule inserts a comma after the latitude coordinates in this paragraph. This rule does not change the coordinates themselves.

This rule amends § 80.715 to update the name of a lighthouse and correct non-substantive typographical errors. The “Tybee Range Rear Light” is now called the “Tybee Light.” For grammatical consistency, this rule inserts a comma after the latitude coordinates. This rule does not change the coordinates themselves. Also, this rule removes excess space between the “N” in the latitude position and the period that follows it.

This rule makes a non-substantive correction to a reference point in § 80.717(c). Previously, “Wassaw Island” was misspelled. This rule updates this paragraph to reflect the correct spelling of this island, which serves as a geographical point of reference in this paragraph.

This rule amends § 80.717(d) to correct a non-substantive typographical error in the longitude position. Previously, a zero was omitted from the minutes section of the longitude. The longitude should now read “81°08.4′ W.” This rule does not change the location that the coordinates reference.

This rule amends § 80.720(a) and (b) to correct non-substantive typographical errors in latitude positions. Specifically, for consistency, this rule inserts a comma after the latitude coordinates. This rule does not change the coordinates themselves.

This rule amends § 80.735(a) and (f) to correct a non-substantive typographical errors in latitude position. Specifically, for consistency, this rule inserts a comma after the latitude coordinates. This rule does not change the coordinates themselves.

This rule amends § 80.738(b) to convert the minutes and seconds in the coordinates to minutes and decimals for consistency with the other sections of this part. The Coast Guard seeks to standardize its coordinates in order to provide uniform and predictable reference points for those looking at regulations. This rule also corrects a non-substantive typographical error by inserting periods after the “N” and “W” for readability and consistency. This rule does not change the location that the coordinates reference.

This rule amends § 80.740 and paragraphs (a) and (c) of § 80.745 to correct non-substantive typographical errors in the latitude positions. Specifically, this correction inserts commas after the “N” and “W” for consistency. This rule does not change the coordinates themselves.

This rule amends § 80.748(d) to correct a non-substantive typographical error in the latitude position. Specifically, for consistency, this correction inserts a comma after the “N” in the latitude coordinate. This rule does not change the location that the coordinates reference.

This rule amends § 80.757(g) to correct non-substantive typographical errors in the latitude position. Specifically, this correction inserts commas after the “N” and “W” for consistency. This rule does not change the location that the coordinates reference.

This rule amends § 80.757(h) to update the name of a lighthouse listed as a reference point. The lights previously referred to as the “Suwannee River Wadley Pass Channel Daybeacons 30 and 31” are now referred to as the “Suwannee River Mcgriff Pass Daybeacons 30 and 31.” The name change reflects the updated names in the Light List.

This rule amends § 80.805(d) to update a COLREGS demarcation line. The line previously described did not intersect Turkey Light Point 2, a referenced aid to navigation. Instead, this demarcation line is updated to correctly identify the demarcation line by removing that reference and instead using a fixed extremity of land as a point of reference. Additionally, this rule corrects non-substantive typographical errors in the longitude position. Specifically, for consistency, this correction inserts a comma after the “W.” This grammatical change does not change the location that this line references.

This rule amends § 80.830(a) to remove a reference to an aid to navigation that has been removed. A reference to the “West Bay light” was replaced by a reference to the “westernmost point near Pass du Bois,” as the previous point of reference is an aid to navigation that was removed. Additionally, this rule corrects non-substantive typographical errors in the latitudes referenced in this paragraph. Specifically, for consistency, this rule adds a comma after the letter “N” in the latitude coordinates. This grammatical correction does not change the location that the coordinates reference.

This rule amends § 80.835 to update a reference to the name of an aid to navigation, removes a navigational reference point that no longer exists, and corrects non-substantive typographical errors in latitude and longitude coordinates. The aid to navigation previously referred to as “Point Au Fer Reef Light 33” is now correctly referred to as the “Atchafalaya Channel Light 33,” reflecting a recent name change. Further, the reference point known as “Pipeline Light D” no longer exists, and any reference to it has been removed. Additionally, this rule adds commas after the “N” and “W” in the latitude and longitude coordinates listed in this regulation. This grammatical change is done for consistency and does not change the location that the coordinates reference.

This rule amends § 80.1110 to update the numbers for the lights referenced. The light previously referred to as “Dana Point Jetty Light 6” has since been renamed to “Dana Point Jetty Light 4” and the light previously referred to as “Dana Point Breakwater Light 5” is now known as “Dana Point Breakwater Light 3.”

This rule amends § 83.10(l) to make a non-substantive grammatical change. This rule capitalizes the “R” in “rule” for clarity and consistency. This capitalization indicates to the reader that the word “rule” refers to the requirements of Rule 10, the rule in which paragraph (l) is located.

This rule amends § 83.38(d)(5) to add a word for clarity. Previously, this paragraph had a sentence that read, “The restructuring of all lights to meet the prescriptions of Annex I to these, until. . .” This rule adds the word “Rules” to clarify that the prescriptions of Annex I come from the previously discussed Rules.

This rule amends § 83.38(d)(6) to make a non-substantive grammatical change. Specifically, this rule inserts a hyphen into the phrase “all-round” for clarity and consistency.

This rule amends § 101.105 to make a non-substantive update to correct a Web site referenced in the text. The Web site is now located at http://www.uscg.mil/hq/cg5/nvic. The contents of that Web site remain the same; only the link has changed.

This rule amends § 101.115(a) to reflect changes in internal agency organization by updating Coast Guard office titles. The Coast Guard has implemented its DCO 3.0 policy that changes office titles and internal organizational structure. The office reference in this paragraph has changed from “CG-54” to “CG-5P.” This section has been updated to reflect the new office designation as CG-5P.

This rule amends § 101.120(b) to make non-substantive changes for clarification. This paragraph makes reference to Alternative Security Programs that owners and operators of vessels may comply with. This rule changes the language from “may meet an Alternative Security Program” to “may meet the requirements of an Alternative Security Program.” This section always intended that the requirements of the Alternative Security Programs be met; a clause is being added to clarify that point.

This rule amends § 101.120 paragraphs (b), (c), (d)(2), and (f), and the introduction to § 101.125 to reflect changes in internal agency organization by updating Coast Guard office titles. The Coast Guard implemented its DCO 3.0 policy that changed office titles and internal organizational structure. The office references in these paragraphs have changed from “CG-54” to “CG-5P.” This section has been updated to reflect the new office designation as CG-5P.

This rule removes § 101.125 in order to avoid confusion about Alternative Security Programs. Previously in this section, the Coast Guard kept a list of approved Alternative Security Programs. However, the programs and organizations that issue them change so frequently that it is difficult for the Coast Guard to maintain an updated list in the CFR. The list contained within the regulation was never exhaustive and Alternative Security Programs continue to be regulated under subchapter H and approved according to the existing provisions. The Coast Guard maintains an up-to-date list, which can be found under the “MTSA” link located on the Coast Guard Homeport Web site(https://homeport.uscg.mil/).

This rule amends § 101.130(a) to reflect changes in internal agency organization by updating Coast Guard office titles. The Coast Guard implemented its DCO 3.0 policy that changed office titles and internal organizational structure. The office reference in this paragraph changed from “CG-54” to “CG-5P.” This section has been updated to reflect the new office designation as CG-5P.

This rule amends § 101.200 paragraphs (c) and (d) to remove outdated references to a threat advisory system and replaces those references with updated, corrected references. Previously, under § 101.200, the Commandant would adjust the Maritime Security (MARSEC) levels in conjunction with the Homeland Security Alignment System (HSAS). The HSAS was replaced by the National Terrorism Advisory System (NTAS), which now serves as the consulted system in adjusting the MARSEC levels.

This rule removes and reserves § 101.205, because it references an outdated advisory system. Because the HSAS was replaced by the NTAS, this section is no longer relevant and may cause confusion to the reader.

This rule amends § 101.420 to reflect changes in internal agency organization by updating Coast Guard office titles. The Coast Guard implemented its DCO 3.0 policy that changed office titles and internal organizational structure. The office references in these paragraphs have changed from “CG-54” to “CG-5P” and from “CG-543” to “CG-CVC.” This section has been updated to reflect the new office designations as CG-5P and CG-CVC.

This rule also amends § 101.510(a) to update a reference to reflect the current version of a document. The updated document is “NVIC 9-02 change 3,” which replaces “NVIC 9-02 change 2.”

This rule amends § 104.130 to reflect changes in internal agency organization by updating Coast Guard office titles. The Coast Guard implemented its DCO 3.0 policy that changed office titles and internal organizational structure. The office reference in this paragraph changed from “CG-54” to “CG-5P.” This section has been updated to reflect the new office designation as CG-5P.

This rule amends § 104.200(b)(7) to remove a reference to a Web site that is no longer valid. In § 104.200(b)(7), the text refers to a link in which the Maritime Administration supplies the text of the treaties referred to in the paragraph. This Web site and the preceding sentence referring readers to the Web site are being removed because the Web site no longer exists.

This rule amends § 104.205(b)(1) to make a non-substantive change to update an email address to contact the Captain of the Port. The updated email address now reads “HQS-DG-lst-NRCINFO@uscg.mil.”

This rule also amends § 104.205(b)(3) to reflect changes in internal agency organization by updating Coast Guard office titles. The Coast Guard implemented its DCO 3.0 policy that changed office titles and internal organizational structure. The office reference in this paragraph changed from “CG-54” to “CG-5P.” This section has been updated to reflect the new office designation as CG-5P.

This rule amends § 104.267(b)(2) to correct a non-substantive typographical error in the parentheses. The CFR shows an extra space inserted around the left parenthesis. This rule corrects paragraph (b)(2) by removing the extra space.

This rule amends § 104.410(a)(2) by making a non-substantive revision clarifying the security programs that the paragraph refers to. Previously, this paragraph omitted the word “Alternative,” which is used consistently in Subpart D. This paragraph is updated to refer to alternative options as “Approved Alternative Security Programs.”

This rule also amends § 105.130 to reflect changes in internal agency organization by updating Coast Guard office titles. The Coast Guard implemented its DCO 3.0 policy that changes office titles and internal organizational structure. The office reference in this paragraph has changed from “CG-54” to “CG-5P.” This section has been updated to reflect the new office designation as CG-5P.

This rule amends § 105.200(b)(9) to remove a reference to a Web site that is no longer valid. In § 105.200(b)(9), the text refers to a link in which the Maritime Administration supplies the text of the treaties referred to in the paragraph. This Web site and the preceding sentence referring readers to the Web site are being removed because the Web site no longer exists.

This rule amends the introductory paragraph to § 105.400 to make a non-substantive update to correct a Web site referenced in the text. The previous link no longer contains the information referenced. The new link provides information about how to submit a Facility Security Plan electronically as previously referenced in this section.

This rule amends § 104.510(a)(2) by making a non-substantive revision clarifying the security programs that the paragraph refers to. Previously, this paragraph omitted the word “Alternative,” which is used consistently in subpart H. This paragraph is updated to refer to alternative options as “Approved Alternative Security Programs.”

This rule amends § 106.410(a)(2) by making a non-substantive revision clarifying the security programs that the paragraph refers to. Previously, this paragraph omitted the word “Alternative,” which is used consistently in subpart H. This paragraph is updated to refer to alternative options as “Approved Alternative Security Programs.”

This rule adds two paragraphs to § 110.155 that were incorrectly removed during a previous revision. These two paragraphs describe anchorage grounds that were incorrectly removed in a 2008 technical amendment to Title 33 (73 FR 34998). In that rule, this paragraph was amended to accurately identify coordinates using NAD 83. However, in processing this rule, the two anchorages that are the subject of this correction were incorrectly stricken. This rule adds those anchorages—Anchorage No. 38 and 39 back to § 110.115. Despite their incorrect removal from this section, these anchorages have remained in active use by mariners. These anchorages also remain charted in other publications.

This rule amends § 114.01(b) by making non-substantive changes to accurately reflect the description of the regulations in the subchapter. Specifically, this rule removes text that says a description of forms exists in the subchapter. There are no forms associated with § 114.01, thus this rule removes the reference to forms in this section.

This rule amends § 114.10 to make a non-substantive clarification to the text of this paragraph. The text in § 114.10 previously referenced bridge laws listed in § 114.01, however, that section does not identify bridge laws; it generally mentions them but goes no further. That reference to § 114.01 is being replaced with a reference to the authority section for part 114, where the relevant statutes and regulations are identified for the section.

This rule amends §§ 114.25, 114.50, 115.60, and 115.70 by removing a superfluous citation. The previously-cited statute, 49 U.S.C. 1655(g), references a transfer of power from the U.S. Army to the Department of Transportation. Because the Coast Guard moved from the Department of Transportation to the Department of Homeland Security, this delegation is no longer relevant. The delegation of authority to the Department of Homeland Security and the Coast Guard is now transferred through another statute.

This rule amends §§ 116.10(c); 116.15 paragraphs (c) and (d); 116.20 paragraphs (a) and (b); 116.25(a); 116.30 table of contents and title, paragraphs (a), (d), (e), and (g); 116.35(c); 116.40 paragraphs (a), (b), and (c); 116.45(a); and 116.55 paragraphs (a) and (b) to reflect changes to rules of agency organization. The title “Administrator, Office of Bridge Programs” changed to “Chief, Office of Bridge Programs.” This rule updates this reference in the sections mentioned above.

This rule amends § 117.35 to reflect changes to rules of agency organization, procedure, or practice. The language in this paragraph referring to the title of Federal Register notices that advise the public of deviations from drawbridge regulations is updated to “Notice of temporary deviation from regulations.” This change has no effect on the requirements of those notices, but adds the word “temporary” to the action heading in these notices.

This rule amends § 117.393 to make a non-substantive change by updating addresses in this section. The Elgin, Joliet, and Eastern Railway bridge is now operated out of a location in Homewood, Illinois. This section is being updated to reflect that change of address.

This rule amends § 117.425 to make a non-substantive change by updating the name of the bridge referenced in this paragraph. The bridge formerly known as the U.S. 90 bridge is now known as the U.S. 182 bridge. This section is being updated to reflect that name change.

This rule amends § 117.585(a) to make a non-substantive change by updating the name of the bridge referenced in this paragraph. The bridge in this section is now known as the New Bedford-Fairhaven RT. 6 Bridge, mile 0.0. This section is being updated to reflect that name change.

This rule amends § 117.997(c)(2)(ii) to correct a phone number. The phone number for the Gilmerton Bridge is now 757-485-5567.

This rule amends §§ 133.5(c) and 136.9 to update citations within the regulation text. Previously, these paragraphs referred to Department of Transportation regulations in regard to regulations that apply to funds and sanctions. This rule updates those references to Department of Homeland Security regulations to correctly state the applicable regulations. These changes do not impose new regulations upon those affected by these sections.

This rule amends § 138.45 to update contact phone numbers at the National Pollution Funds Center. These new phone numbers are being corrected to reflect a change in location of the National Pollution Funds Center.

This rule amends portions of parts 148, 149, and 150 to correct non-substantive typographical errors and it makes changes to reflect updated rules of agency organization, procedure, or practice. The Coast Guard implemented its DCO 3.0 policy that changes office titles and internal organizational structure. The office references in these parts have been updated to reflect that (1) CG-5, CG-522, and CG-PSO are now known as CG-5P; and (2) CG-PSE is now known as CG-ENG. Additionally, the citations for statutes and regulations have been formatted for consistency within these parts. This rule also updates references to agencies that have changed names or acronyms since the promulgation of these regulations. This rule makes non-substantive corrections to these sections to comply with plain language guidelines. Further, this rule clarifies acronyms in some sections by spelling them out where necessary. This rule also updates outdated Web sites to provide current, working links. Because there are more than 350 changes encompassed in these three parts, a table showing each change is available in the docket for this technical amendment.

This rule amends § 151.05 to make non-substantive edits to the text to remove a superfluous reference and provide order and consistency. The word “oily mixture” appears twice in the text, so the second reference is being removed. These definitions are being unified to avoid the confusion of duplicative definitions.

This rule amends § 164.03 to update the address listed in the text. The address in the incorporation by reference section for the Radio Technical Commission for Maritime Services has changed. This rule updates the address to reflect the new address for the Commission.

V. Regulatory Analyses

We developed this rule after considering numerous statutes and executive orders (E.O.s) related to rulemaking. Below we summarize our analyses based on these statutes or E.O.s.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Two additional executive orders were recently published to promote the goals of E.O. 13563: E.O. 13609 (“Promoting International Regulatory Cooperation”) and E.O. 13610 (“Identifying and Reducing Regulatory Burdens”). Executive Order 13609 targets international regulatory cooperation to reduce, eliminate, or prevent unnecessary differences in regulatory requirements. Executive Order 13610 aims to modernize the regulatory systems and to reduce unjustified regulatory burdens and costs on the public.

This rule is not a significant regulatory action under section 3(f) of E.O. 12866 as supplemented by E.O. 13563, and does not require an assessment of potential costs and benefits under section 6(a)(3) of E.O. 12866. The Office of Management and Budget (OMB) has not reviewed it under E.O. 12866. Because this rule involves non-substantive changes and internal agency practices and procedures, it will not impose any additional costs on the public.

B. Small Entities

Under the Regulatory Flexibility Act (5 U.S.C. 601-612), rules exempt from the notice and comment requirements of the Administrative Procedure Act are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this rule and we do not expect it to have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please consult Mr. Paul Crissy by phone at 202-372-1093 or via email at Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under E.O. 13132 (“Federalism”) if it has a substantial direct effect on State or local governments and would either preempt State law or impose a substantial direct cost of compliance on them. We have analyzed this rule under E.O. 13132 and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under E.O. 12630, (“Governmental Actions and Interference with Constitutionally Protected Property Rights”).

H. Civil Justice Reform

This rule meets applicable standards in sections 3(a) and 3(b)(2) of E.O. 12988, (“Civil Justice Reform”), to minimize litigation, eliminate ambiguity, and reduce burden.

I. Protection of Children

We have analyzed this rule under E.O. 13045, (“Protection of Children from Environmental Health Risks and Safety Risks”). This rule is not an economically significant rule and does not create an environmental risk to health or risk to safety that may disproportionately affect children.

J. Indian Tribal Governments

This rule does not have tribal implications under E.O. 13175, (“Consultation and Coordination with Indian Tribal Governments”), because it does not have a substantial direct effect on one or more Indian tribes, on the relationship between the Federal Government and Indian tribes, or on the distribution of power and responsibilities between the Federal Government and Indian tribes.

K. Energy Effects

We have analyzed this rule under E.O. 13211, Actions Concerning Regulations That Significantly Affect Energy Supply, Distribution, or Use. We have determined that it is not a “significant energy action” under that order because it is not a “significant regulatory action” under E.O. 12866 and is not likely to have a significant adverse effect on the supply, distribution, or use of energy. The Administrator of the Office of Information and Regulatory Affairs has not designated it as a significant energy action. Therefore, it does not require a Statement of Energy Effects under E.O. 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2, figure 2-1, paragraphs (34)(a) and (b) of the Instruction. This rule involves regulations that are editorial, procedural, or concern internal agency functions or organizations. An environmental analysis checklist and a categorical exclusion determination are available in the docket where indicated under ADDRESSES.

List of Subjects

33 CFR Part 1

Administrative practice and procedure, Authority delegations (Government agencies), Freedom of information, Penalties.

33 CFR Part 3

Organization and functions (Government agencies).

33 CFR Part 6

Harbors, Security measures, Vessels.

33 CFR Part 13

Decorations, medals, awards.

33 CFR Part 72

Government publications, Navigation (water).

33 CFR Part 80

Navigation (water), Treaties, Waterways.

33 CFR Part 83

Navigation (water), Waterways, Vessels, Marine safety, Traffic regulation.

33 CFR Part 101

Harbors, Incorporation by reference, Maritime Security, Reporting and recordkeeping requirements, Security measures, Vessels, Waterways.

33 CFR Part 103

Harbors, Maritime security, Reporting and recordkeeping requirements, Security measures, Vessels, Waterways.

33 CFR Part 104

Maritime security, Reporting and recordkeeping requirements, Security measures, Vessels.

33 CFR Part 105

Maritime security, Reporting and recordkeeping requirements, Security measures.

33 CFR Part 106

Continental shelf, Maritime security, Reporting and recordkeeping requirements, Security measures.

33 CFR Part 110

Anchorage grounds.

33 CFR Parts 114, 116, and 117

Bridges.

33 CFR Part 115

Administrative practice and procedure, Bridges, Reporting and recordkeeping requirements.

33 CFR Part 118

Bridges, Incorporation by reference.

33 CFR Part 133

Intergovernmental relations, Oil pollution, Reporting and recordkeeping requirements.

33 CFR Part 136

Administrative practice and procedure, Advertising, Claims, Oil pollution, Penalties, Reporting and recordkeeping requirements.

33 CFR Part 138

Hazardous materials transportation, Insurance, Oil pollution, Reporting and recordkeeping requirements, Water pollution control.

33 CFR Part 148

Administrative practice and procedure, Environmental protection, Harbors, Petroleum.

33 CFR Part 149

Fire prevention, Harbors, Marine safety, Navigation (water), Occupational safety and health, Oil pollution.

33 CFR Part 150

Harbors, Marine safety, Navigation (water), Occupational safety and health, Oil pollution, Reporting and recordkeeping requirements.

33 CFR Part 151

Administrative practice and procedure, Oil pollution, Penalties, Reporting and recordkeeping requirements, Water pollution control.

33 CFR Part 161

Harbors, Navigation (water), Reporting and recordkeeping requirements, Vessels, Waterways.

33 CFR Part 164

Incorporation by reference, Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 1, 3, 6, 13, 72, 80, 83, 101, 103, 104, 105, 106, 110, 114, 115, 116, 117, 118, 133, 136, 138, 148, 149, 150, 151, 161, 164, and 165 as follows:

PART 1—GENERAL PROVISIONS

Subpart 1.05—Rulemaking

1. The authority citation for subpart 1.05 continues to read as follows:

Authority: 5 U.S.C. 552, 553, App. 2; 14 U.S.C. 2, 631, 632, and 633; 33 U.S.C. 471, 499; 49 U.S.C. 101, 322; Department of Homeland Security Delegation No. 0170.1.

§ 1.05-1 [Amended]

2. In § 1.05-1(j), wherever it appears, remove the text “District Bridge Programs Chief” and add, in its place, the text “District Bridge Manager”.

§ 1.05-10 [Amended]

3. In § 1.05-10(a), remove the text “District Commanders and Captains of the Port” wherever it appears, and add, in its place, the text “District Commanders, Captains of the Port, and District Bridge Managers”; and following the words “Coast Guard Headquarters”, remove the punctuation “,” and add, in its place, the punctuation “.”.

PART 3—COAST GUARD AREAS, DISTRICTS, SECTORS, MARINE INSPECTION ZONES, AND CAPTAIN OF THE PORT ZONES

Subpart 3.01—General Provisions

4. The authority citation for part 3 continues to read as follows:

Authority: 14 U.S.C. 92; Pub. L. 107-296, 116 Stat. 2135; Department of Homeland Security Delegation No. 0170.1, para. 2(23).

5. Amend § 3.01-1 as follows:

a. In paragraph (d)(1), before the words “Sector Commander's authorities include”, remove the word “The” and add, in its place, the words “Unless otherwise specified, the”; and

b. Add new paragraph (d)(3) to read as follows:

§ 3.01-1 General description.

* * * * *

(d) * * *

(3) Some specified sectors exercise Search and Rescue Mission Coordinator (SMC) authority over a designated portion of an encompassing sector's area of responsibility. In such cases, SMC authority is exercised by the encompassed sector, not the encompassing sector. The encompassing sector retains all other authorities (as listed in 33 CFR 3.01-1(d)(1)) over the designated area.

6. Add § 3.55-25 to read as follows:

§ 3.55-25 Sector Humboldt Bay Search and Rescue Mission Coordinator Zone.

The Sector Humboldt Bay office is located in McKinleyville, CA. The boundaries of Sector Humboldt Bay's Search and Rescue Mission Coordinator Zone start in the north by a line bearing 264T from the coastal point of the Oregon-California border (42°00.0′ N./124°13.0′ W.), on the south by a line bearing 270T from the coastal point of the Mendecino-Sonoma County, CA, border (38°47.0′ N./123°30.0′ W.), and on the west by the outermost extent of the exclusive economic zone (EEZ). The inland Area of Responsibility (AOR) includes the entirety of the following California counties: Del Norte, Humboldt, Mendecino, Siskiyou, Trinity, Shasta, Tehama, Glenn, Lake, Colusa, Butte, Plumas, Lassen, and Modoc.

7. Add § 3.65-20 to read as follows:

§ 3.65-20 Sector North Bend Search and Rescue Mission Coordinator Zone.

The Sector North Bend office is located in North Bend, OR. The boundaries of Sector North Bend's Search and Rescue Mission Coordinator Zone start at a point 45°12.0′ N. latitude, 123°18.0′ W. longitude and proceeds southward along the 123°18.0′ W. longitude, to a point 42°00.0′ N. latitude, 123°18.0′ W. longitude; thence westerly along 42°0.00′ N. latitude to the sea. The offshore boundary is bounded on the south by the southern boundary of the 13th Coast Guard District, which is described in § 3.65-10, to the outermost extent of the EEZ; thence northerly along the outermost extent of the EEZ to 45°12.0′ N. latitude; thence easterly along 45°12.0′ N. latitude to a point 45°12.0′ N. latitude, 123°18.0′ W. longitude. Sector North Bend's search and rescue mission coordination responsibilities extend from its eastern most boundary seaward to 50 nautical miles west of the coastline.

PART 6—PROTECTION AND SECURITY OF VESSELS, HARBORS, AND WATERFRONT FACILITIES

Subpart 6.01—Definitions

8. The authority citation for part 6 continues to read as follows:

Authority: 40 Stat. 220, as amended; 50 U.S.C. 191.

9. Revise § 6.01-3 to read as follows:

§ 6.01-3 Captain of the Port.

Captain of the Port as used in this part, means the officer of the Coast Guard, under the command of a District Commander, so designated by the Commandant for the purpose of giving immediate direction to Coast Guard law enforcement activities within his or her assigned area. In addition, the District Commander will be Captain of the Port with respect to the remaining areas in his or her District not assigned to officers designated by the Commandant as Captain of the Port.

PART 13—DECORATIONS, MEDALS, RIBBONS AND SIMILAR DEVICES

Subpart 13.01—Gold and Silver Lifesaving Medals, Bars, and Miniatures

10. The authority citation for part 13 continues to read as follows:

Authority: Secs. 500, 633, 63 Stat. 536, 545, sec. 6(b)(1), 80 Stat. 938; 14 U.S.C. 500, 633; 49 U.S.C. 1655(b); 49 CFR 1.4 (a)(2) and (f).

§ 13.01-15 [Amended]

11. In § 13.01-15(d), following the text “such an incident under”, remove the text “Chapter II, of the Coast Guard Supplement to the Manual for Courts-Martial (CG-241)” and add, in its place, the text “Administrative Investigations Manual, COMDTINST M5830.1A (2007)”.

PART 72—MARINE INFORMATION

Subpart 72.01—Notices to Mariners

12. The authority citation for part 72 continues to read as follows:

Authority: 14 U.S.C. 85, 633; 43 U.S.C. 1333; Department of Homeland Security Delegation No. 0170.1.

13. In § 72.01-5, remove the Note to § 72.01-5 and revise paragraphs (b) and (c) to read as follows:

§ 72.01-5 Local Notice to Mariners.

* * * * *

(b) “Local Notice to Mariners” is published weekly by each Coast Guard district or more often if there is a need to notify mariners of local waterway information. Local Notice to Mariners is available for viewing on the Coast Guard Navigation Center Web site (http://www.navcen.uscg.gov/?pageName=lnmMain).

(c) Any person may apply to the Coast Guard Navigation Center to receive automatic notices via email when new editions of the Local Notice to Mariners are available. Register at http://www.navcen.uscg.gov/?pageName=LNMlistRegistration.

14. In § 72.01-10, remove the Note to § 72.01-10 and revise paragraphs (b) and (c) to read as follows:

§ 72.01-10 Notice to Mariners.

* * * * *

(b) “Notice to Mariners” is published weekly by the National Geospatial-Intelligence Agency. The “Notice to Mariners” is prepared jointly by the:

(1) Coast Guard;

(2) National Ocean Service; and

(3) National Geospatial-Intelligence Agency.

(c) This notice may be accessed through the National Geospatial-Intelligence Agency's Web site (http://msi.nga.mil/NGAPortal/MSI.portal); look for “Notice to Mariners”.

15. In § 72.01-25, revise paragraphs (b) and (c) to read as follows:

§ 72.01-25 Marine broadcast notice to mariners.

* * * * *

(b) Any person may view or download “Radio Navigational Aids” from the National Geospatial-Intelligence Agency's Web site (http://msi.nga.mil/NGAPortal/MSI.portal); look for “Publications.”

(c) Any person may purchase United States Coast Pilots from an authorized agent listed at http://aeronav.faa.gov/agents.asp or authorized Print-on-Demand agent listed at http://www.nauticalcharts.noaa.gov/staff/charts.htm. Free on-line versions, as well as weekly updates, are available directly from NOAA at http://www.nauticalcharts.noaa.gov/nsd/cpdownload.htm.

§ 72.01-35 [Removed and Reserved]

16. Remove and reserve § 72.01-35.

§ 72.01-40 [Amended]

17. In § 72.01-40(c), remove the words “The National Imagery and Mapping Agency” and add, in their place, the words “The National Geospatial-Intelligence Agency”.

§ 72.05-5 [Amended]

18. In § 72.05-5, remove the text “P.O. Box 371954, Pittsburgh, PA 15250-1954” and add, in its place, the text “P.O. Box 979050, St. Louis, MO 63197-9000”.

§ 72.05-10 [Amended]

19. In the Note to § 72.05-10, following the text “Coast Guard Light”, remove the text “data through the following National Geospatial-Intelligence Agency's Web site: (http://pollux.nss.nima.mil/pubs/USCGLL/pubs_j_uscgll_list.html)” and add, in its place, the text “List data through the Coast Guard Navigation Center's Web site: (http://www.navcen.uscg.gov/?pageName=lightLists)”.

PART 80—COLREGS DEMARCATION LINES

20. The authority citation for part 80 continues to read as follows:

Authority: 14 U.S.C. 2; 14 U.S.C. 633; 33 U.S.C. 151(a).

§ 80.110 [Amended]

21. In § 80.110(b), following the coordinates “43°40.6′ N.”, add the punctuation “,”.

§ 80.115 [Amended]

22. In § 80.115(b), following the coordinates “43°04.0′ N.”, add the punctuation “,”.

§ 80.120 [Amended]

23. In § 80.120(b), following the word “Gloucester”, remove the word “Harbor”; and following the coordinates “42°35.1′ N.”, add the punctuation “,”.

§ 80.145 [Amended]

24. Amend § 80.145 as follows:

a. In paragraph (b), following the coordinates “41°29.1′ N.”, add the punctuation “,”; and

b. In paragraph (c), following the coordinates “41°28.5′ N.”, add the punctuation “,”.

§ 80.501 [Amended]

25. In § 80.501(d), following the coordinates “39°18.2′ N.”, add the punctuation “,”; and following the coordinates “39°17.6′ N.”, add the punctuation “,”.

§ 80.505 [Amended]

26. In § 80.505(c), following the coordinates “37°52.6′ N.”, add the punctuation “,”.

27. Revise § 80.520 to read as follows:

§ 80.520 Cape Hatteras, NC to Cape Lookout, NC.

(a) A line drawn from Hatteras Inlet Lookout Tower at latitude 35°11.85′ N., longitude 75°43.9′ W. 255° true to the eastern end of Ocracoke Island.

(b) A line drawn from the westernmost extremity of Ocracoke Island at latitude 35°04.0′ N., longitude 76°00.8′ W. to the northeasternmost extremity of Portsmouth Island at latitude 35°03.7′ N., longitude 76°02.3′ W.

(c) A line drawn across Drum Inlet parallel with the general trend of the highwater shoreline.

28. Amend § 80.525 as follows:

a. In paragraph (c), following the coordinates “34°38.7′ N.”, “77°06.0′ W.”, and “34°38.5′ N.”, add the punctuation “,” after each; and

b. Revise paragraphs (d) and (e) to read as follows:

§ 80.525 Cape Lookout, NC to Cape Fear, NC.

* * * * *

(d) A line drawn from the easternmost extremity on the southern side of New River Inlet at latitude 34°31.5′ N., longitude 77°20.6′ W., to the seaward tangent of the shoreline on the northeast side on New River Inlet.

(e) A line drawn across New Topsail Inlet between the closest extremities of the shore on either side of the inlet parallel with the general trend of the highwater shoreline.

* * * * *

§ 80.530 [Amended]

29. In 80.530(a), following the coordinates “33°52.4′ N.” and “78°00.1′ W.”, add the punctuation “,” after each.

30. Revise § 80.703(f) to read as follows:

§ 80.703 Little River Inlet, SC to Cape Romain, SC.

* * * * *

(f) A north-south line drawn from the northernmost extremity of Cape Island Point to Murphy Island.

31. Revise § 80.707 paragraphs (a) and (b) to read as follows:

§ 80.707 Cape Romain, SC to Sullivans Island, SC.

(a) A line drawn from the westernmost point on Cape Romain to the southeasternmost point on Raccoon Key.

(b) A line drawn from the westernmost extremity of Raccoon Key to the northernmost extremity of Northeast Point.

* * * * *

32. Revise § 80.712 paragraphs (a) and (f) to read as follows:

§ 80.712 Morris Island, SC to Hilton Head Island, SC.

(a) A straight line drawn from the seaward tangent of Folly Island through across Stono River to the shoreline of Sandy Point.

* * * * *

(f) A line drawn from the westernmost extremity of Bull Point on Capers Island to Port Royal Sound Channel Range Rear Light, latitude 32°13.7′ N., longitude 80°36.0′ W.; thence 259° true to the easternmost extremity of Hilton Head at latitude 32°13.0′ N., longitude 80°40.1′ W.

33. Revise § 80.715 to read as follows:

§ 80.715 Savannah River.

A line drawn from the southernmost tank on Hilton Head Island charted in approximate position latitude 32°06.7′ N., longitude 80°49.3′ W., to Bloody Point Range Rear Light; thence to Tybee Light.

§ 80.717 [Amended]

34. Amend § 80.717 as follows:

a. In paragraph (c), remove the word “Wassau” and add, in its place, the word “Wassaw”; and

b. In paragraph (d), remove the coordinates “81°8.4′ W.”, and add, in their place, the coordinates “81°08.4′ W.”.

35. Amend § 80.720 as follows:

a. In paragraph (a), following the coordinate “31°05.9′ N.”, add the punctuation “,”; and

b. Revise paragraph (b) to read as follows:

§ 80.720 St. Simons Island, GA to Amelia Island, FL.

* * * * *

(b) A line drawn from the southernmost tank on Jekyll Island charted in approximate position latitude 31°01.6′ N., longitude 81°25.2′ W., to coordinate latitude 30°59.4′ N., longitude 81°23.7′ W. (0.5 nautical mile east of the charted position of St. Andrew Sound Lighted Buoy 32); thence to the abandoned lighthouse tower on the north end of Little Cumberland Island charted in approximate position latitude 30°58.5′ N., longitude 81°24.8′ W.

* * * * *

36. Revise § 80.735 paragraphs (a) and (f) to read as follows:

§ 80.735 Miami, FL to Long Key, FL.

(a) A line drawn from the southernmost extremity of Fisher Island 212° true to the point latitude 25°45.0′ N., longitude 80°08.6′ W., on Virginia Key.

* * * * *

(f) A line drawn on the centerline of the Overseas Highway (U.S. 1) and bridges from latitude 25°19.3′ N., longitude 80°16.0′ W., at Little Angelfish Creek to the radar dome charted on Long Key at approximate position latitude 24°49.3′ N., longitude 80°49.2′ W.

§ 80.738 [Amended]

37. In § 80.738(b), remove the text “18°28′30″ N, 066°08′24″ W.”, and add, in its place, the text, “18°28.5′ N., 066°08.4′ W.”.

38. Revise § 80.740 to read as follows:

§ 80.740 Long Key, FL to Cape Sable, FL.

A line drawn from the microwave tower charted on Long Key at approximate position latitude 24°48.8′ N., longitude 80°49.6′ W., to Long Key Light 1; thence to Arsenic Bank Light 2; thence to Sprigger Bank Light 5; thence to Schooner Bank Light 6; thence to Oxfoot Bank Light 10; thence to East Cape Light 2; thence through East Cape Daybeacon 1A to the shoreline at East Cape.

§ 80.745 [Amended]

39. Amend § 80.745 as follows:

a. In paragraph (a), following the coordinates “25°41.8′ N.”, add the punctuation “,”; and

b. In paragraph (c), following the coordinates “81°20.2′ W.”, add the punctuation “,”.

§ 80.748 [Amended]

40. In § 80.748(d) following the coordinates “26°05.7′ N.”, add the punctuation “,”.

41. Revise § 80.757 paragraphs (g) and (h) to read as follows:

§ 80.757 Suncoast Keys, FL to Horseshoe Point, FL.

* * * * *

(g) A line drawn from position latitude 29°16.6′ N., longitude 83°06.7′ W., 300° true to the shoreline of Hog Island.

(h) A north-south line drawn through Suwannee River Mcgriff Pass Daybeacons 30 and 31 across the Suwannee River.

42. Revise § 80.805(d) to read as follows:

§ 80.805 Rock Island, FL to Cape San Blas, FL.

* * * * *

(d) A line drawn from the south shore of Southwest Cape at longitude 84°22.7′ W., to Dog Island Reef East Light 1; thence a straight line to the easternmost extremity of Dog Island.

* * * * *

43. Revise § 80.830(a) to read as follows:

§ 80.830 Mississippi Passes, LA to Point Au Fer, LA.

(a) A line drawn from the seaward extremity of the Southwest Pass West Jetty located at coordinate latitude 28°54.5′ N., longitude 89°26.1′ W.; thence following the general trend of the seaward, highwater jetty and shoreline in a north, northeasterly direction to Old Tower latitude 28°58.8′ N., longitude 89°23.3′ W.; thence to westernmost point near Pass du Bois; thence to coordinate latitude 29°05.2′ N., longitude 89°24.3′ W.; thence a curved line following the general trend of the highwater shoreline to Point Au Fer Island except as otherwise described in this section.

* * * * *

44. Revise § 80.835 paragraphs (a) and (f) to read as follows:

§ 80.835 Point Au Fer, LA to Calcasieu Pass, LA.

(a) A line drawn from Point Au Fer to Atchafalaya Channel Light 34; thence to Atchafalaya Channel Light 33; thence to latitude 29°25.0′ N., longitude 91°31.7′ W.; thence to Atchafalaya Bay Light 1 latitude 29°25.3′ N., longitude 91°35.8′ W.; thence to South Point.

* * * * *

(f) A line drawn from the radio tower charted in approximate position latitude 29°45.7′ N., longitude 93°06.3′ W., 115° true across Mermentau Pass.

* * * * *

§ 80.1110 [Amended]

45. In § 80.1110, following the text “Point Jetty Light”, remove the text “6” and add, in its place, the text “4”; and following the text “Breakwater Light”, remove the text “5” and add, in its place, the text “3”.

PART 83—RULES

Subpart B—Steering and Sailing Rules

46. The authority citation for part 83 continues to read as follows:

Authority: Sec. 303, Pub. L. 108-293, 118 Stat. 1028 (33 U.S.C. 2001); Department of Homeland Security Delegation No. 0170.1.

§ 83.10 [Amended]

47. In § 83.10(l) following the words “complying with this”, remove the word “rule”, and add, in its place, the word “Rule”.

§ 83.38 [Amended]

48. Amend § 83.38 as follows:

a. In paragraph (d)(5), following the words “Annex I to these”, add the word “Rules”; and

b. In paragraph (d)(6), following the text “light aft visible all”, add the punctuation “-”.

PART 101—MARITIME SECURITY: GENERAL

Subpart A—General

49. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.105 [Amended]

50. Amend § 101.105 as follows:

a. In the definition of “Area Maritime Security (AMS) committee”, following the text “of the Port (COTP) or at”, remove the text, “http://www.uscg.mil/hq/g-m/nvic” and add, in its place, the text “http://www.uscg.mil/hq/cg5/nvic/” and

b. In the definition of “Secure area”, following the words “subchapter located in”, add the words “the Commonwealth of the Northern Mariana Islands and”.

§ 101.115 [Amended]

51. In § 101.115(a), following the text “Port Security Directorate”, remove the text “(CG-54)” and add, in its place, the text “(CG-5P)”.

§ 101.120 [Amended]

52. Amend § 101.120 as follows:

a. In paragraph (b)(1) following the text “Chapter XI, may meet”, add the text “the requirements of”; and following the text “approved by the Commandant”, remove the text “(CG-54)” and add, in its place, the text “(CG-5P)”;

b. In paragraph (c) following the text “submit to the Commandant”, remove the text “(CG-54)” and add, in its place, the text “(CG-5P)”;

c. In paragraph (d)(2), remove the text “(CG-54)” wherever it appears, and add, in its place, the text “(CG-5P)”; and

d. In paragraph (f), remove the text “(CG-54)” and add, in its place, the text “(CG-5P)”.

§ 101.125 [Removed and Reserved]

53. Remove and reserve § 101.125.

§ 101.130 [Amended]

In § 101.130(a), remove the text “(CG-54)” wherever it appears, and add, in its place, the text “(CG-5P)”.

54. Revise § 101.200 paragraphs (c) and (d) to read as follows:

§ 101.200 MARSEC Levels.

* * * * *

(c) The Commandant will set (raise or lower) the MARSEC Level commensurate with risk, and in consideration of any maritime nexus to any active National Terrorism Advisory System (NTAS) alerts. Notwithstanding the NTAS, the Commandant retains discretion to adjust the MARSEC Level when necessary to address any particular security concerns or circumstances related to the maritime elements of the national transportation system.

(d) The COTP may raise the MARSEC Level for the port, a specific marine operation within the port, or a specific industry within the port, when necessary to address an exigent circumstance immediately affecting the security of the maritime elements of the transportation in his/her area of responsibility. Application of this delegated authority will be pursuant to policies and procedures specified by the Commandant.

§ 101.205 [Removed and Reserved]

55. Remove and reserve § 101.205.

§ 101.420 [Amended]

56. Amend § 101.420 as follows:

a. In paragraph (b), following the text “made to the Commandant”, remove the text “(CG-543)” and add, in its place, the text “(CG-CVC)”; and

b. In paragraphs (b), (c), and (d), remove the text “(CG-54)” wherever it appears, and add, in its place, the text “(CG-5P)”.

§ 101.510 [Amended]

57. In § 101.510(a), following the text “(NVIC”, remove the text “9-02 change 2”, and add, in its place, the text “9-02 change 3”.

PART 104—MARITIME SECURITY: VESSELS

58. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.130 [Amended]

59. In § 104.130, remove the text “(CG-54)” wherever it appears, and add, in its place, the text “(CG-5P)”.

§ 104.200 [Amended]

60. In § 104.200(b)(7), remove the text “. The text of these treaties can be found at http://www.marad.dot.gov/Programs/treaties.html”.

§ 104.205 [Amended]

61. Amend § 104.205 as follows:

a. In paragraph (b)(1), remove the text “lst-nrcinfo@comdt.uscg.mil” and add, in its place, the text “HQS-DG-lst-NRCINFO@uscg.mil”; and

b. In paragraph (b)(3), remove the text “(CG-54)”, and add, in its place, the text “(CG-5P)”.

§ 104.267 [Amended]

62. In § 104.267(b)(2), remove the text “( http://homeport.uscg.mil )”, and add, in its place, the text “( http://homeport.uscg.mil )”.

§ 104.410 [Amended]

63. In § 104.410(a)(2) following the words “under an Approved”, add the word “Alternative”.

PART 105—MARITIME SECURITY: FACILITIES

64. The authority citation for part 105 continues to read as follows:

Authority: 33 U.S.C. 1226, 1231; 46 U.S.C. 70103; 50 U.S.C. 191; 33 CFR 1.05-1, 6.04-11, 6.14, 6.16, and 6.19; Department of Homeland Security Delegation No. 0170.1.

§ 105.130 [Amended]

65. In § 105.130, remove the text “(CG-54)” wherever it appears, and add, in its place, the text “(CG-5P)”.

§ 105.200 [Amended]

66. In § 105.200(b)(9), following the text “U.S. and other nations”, remove the text “. The text of these treaties can be found at http://www.marad.dot.gov/Programs/treaties.html”.

§ 105.257 [Amended]

67. In § 105.257(b)(2), remove the word “facility”, and add, in its place, the word “vessel”; remove the text “FSO” and add, in its place, the text “VSO”; and remove the text “( http://homeport.uscg.mil )” and add, in its place, the text “( http://homeport.uscg.mil )”.

§ 105.400 [Amended]

68. In 105.400(b), following the text “can be found at”, remove the text “http://www.uscg.mil/HQ/MSC.” and add, in its place, the text “https://homeport.uscg.mil/cgi-bin/st/portal/uscg_docs/MyCG/Editorial/20090220/FSP_Submissi_FAQ05DEC.pdf?id=00388e15db7e7bf4b1fc3556059dac7c3e063b57&user_id=c5535d2497d5d673ff261157e034a1ea.”

§ 105.410 [Amended]

69. In § 105.410(a)(2), following the words “under an Approved”, add the word “Alternative”.

PART 106—MARINE SECURITY: OUTER CONTINENTAL SHELF (OCS) FACILITIES

70. The authority citation for part 106 continues to read as follows:

Authority: 33 U.S.C. 1226, 1231; 46 U.S.C. Chapter 701; 50 U.S.C. 191; 33 CFR 1.05-1, 6.04-11, 6.14, 6.16, and 6.19; Department Of Homeland Security Delegation No. 0170.1.

§ 106.410 [Amended]

71. In § 106.410(a)(2), following the words “under an Approved”, add the word “Alternative”.

PART 110—ANCHORAGE REGULATIONS

72. The authority citation for part 110 continues to read as follows:

Authority: 33 U.S.C. 471, 1221 through 1236, 2030, 2035, 2071; 33 CFR 1.05-1; Department of Homeland Security Delegation No. 0170.1.

73. In § 110.155, add paragraphs (h)(5) and (h)(6) to read as follows:

§ 110.155 Port of New York.

* * * * *

(h) * * *

(5) Anchorage No. 38. North of the Pennsylvania-Lehigh Valley Railroad bridge; east of lines ranging through a point 200 yards east of the east end of the lift span of the said bridge and the red channel buoys marking the dredged channel in Newark Bay and Hackensack River; and south of the Central Railroad Company of New Jersey bridge.

(6) Anchorage No. 39. Between the entrance channels of the Hackensack and Passaic Rivers, northwest of lines from the abutment of the Central Railroad of New Jersey bridge on the west side of the Hackensack River to Hackensack River Light 1, and thence to Newark Bay Light 5, and east of a line from said light ranging toward the southeast corner of the Texas Company wharf, and of a line ranging from the southeast corner of Gross Wharf to the abutment and end of fill of the Central Railroad of New Jersey bridge on the east side of the Passaic River.

* * * * *

PART 114—GENERAL

74. The authority citation for part 114 continues to read as follows:

Authority: 33 U.S.C. 401, 406, 491, 494, 495, 499, 502, 511, 513, 514, 516, 517, 519, 521, 522, 523, 525, 528, 530, 533, and 535(c), (e), and (h); 14 U.S.C. 633; 49 U.S.C. 1655(g); Pub. L. 107-296, 116 Stat. 2135; 33 CFR 1.05-1 and 1.01-60, Department of Homeland Security Delegation Number 0170.1.

§ 114.01 [Amended]

75. In § 114.01(b), remove the text “procedures and practices, including forms” and add, in its place, the text “procedures, practices,”.

§ 114.10 [Amended]

76. In § 114.10 following the text “laws referenced in”, remove the text “§ 114.01 Purpose,” and add, in its place, the text “the Authority for part 114”.

§ 114.25 [Amended]

77. In § 114.25, remove the text “49 U.S.C. 1655(g),”.

§ 114.50 [Amended]

78. In § 114.50, remove the text “49 U.S.C. 1655(g),”.

PART 115—BRIDGE LOCATIONS AND CLEARANCES; ADMINISTRATIVE PROCEDURES

79. The authority citation for part 115 continues to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, Title V, sec. 502, 60 Stat. 847, as amended (33 U.S.C. 525); 86 Stat. 732 (33 U.S.C. 535); 14 U.S.C. 633.

§ 115.60 [Amended]

80. In § 115.60 following paragraph (e), remove the text “49 U.S.C. 1655(g),”.

§ 115.70 [Amended]

81. Amend § 115.70 as follows:

a. In paragraph (a) following the text “reasonable needs of navigation.”, add the text “The Coast Guard recommends notice to the District Bridge Manager to ensure that the District has determined that advance approval provision is applicable to the waterway reach over which the bridge is to be constructed.”; and

b. Following paragraph (b), remove the text “49 U.S.C. 1655(g);”.

PART 116—ALTERATION OF UNREASONABLY OBSTRUCTIVE BRIDGES

82. The authority citation for part 116 continues to read as follows:

Authority: 33 U.S.C. 401, 521.

§ 116.10 [Amended]

83. In § 116.10(c) following the words “complainant and the”, remove the word “Administrator” and add, in its place, the word “Chief”.

§ 116.15 [Amended]

84. In § 116.15 paragraphs (c) and (d), remove the word “Administrator” and add, in its place, the word “Chief”.

§ 116.20 [Amended]

85. In § 116.20 in paragraphs (a) and (b), remove the word “Administrator” and add, in its place, the word “Chief”.

§ 116.25 [Amended]

86. In § 116.25(a), remove the word “Administrator” and add, in its place, the word “Chief”.

§ 116.30 [Amended]

87. In § 116.30, in the section heading and paragraphs (a), (d), (e), and (g) remove the word “Administrator” wherever it appears, and add, in its place, the word “Chief”.

§ 116.35 [Amended]

88. In § 116.35(c), remove the word “Administrator” and add, in its place, the word “Chief”.

§ 116.40 [Amended]

89. In § 116.40, wherever it appears, remove the word “Administrator” and add, in its place, the word “Chief”.

§ 116.45 [Amended]

90. In § 116.45(a), remove the word “Administrator” and add, in its place, the word “Chief”.

§ 116.55 [Amended]

91. In § 116.55 paragraphs (a) and (b), remove the word “Administrator” and add, in its place, the word “Chief”.

PART 117—DRAWBRIDGE OPERATION REGULATIONS

92. The authority citation for part 117 continues to read as follows:

Authority: 33 U.S.C. 499; 33 CFR 1.05-1; and Department of Homeland Security Delegation No. 0170.1.

§ 117.35 [Amended]

93. In § 117.35(a), following the text “owner and publish a”, remove the text “ “Notice of deviation from drawbridge regulation” ” and add, in its place, the text “ “Notice of temporary deviation from regulations” ”.

§ 117.393 [Amended]

94. In § 117.393(d), following the text “Elgin, Joliet & Eastern offices in”, remove the text “East Joliet” and add, in its place, the text “Homewood”.

§ 117.425 [Amended]

95. In § 117.425, following the text “draw of the”, remove the text “U.S. 90” and add, in its place, the text “U.S. 182”.

96. Revise § 117.585(a) to read as follows:

§ 117.585 Acushnet River.

(a) The New Bedford-Fairhaven RT-6 Bridge, mile 0.0, will open promptly, provided proper signal is given, on the following schedule:

* * * * *

§ 117.997 [Amended]

97. In § 117.997(c)(2)(ii), following the text “Gilmerton Bridge at”, remove the text “(757) 545-1512” and add, in its place, the text “757-485-5567”.

PART 118—BRIDGE LIGHTING AND OTHER SIGNALS

98. The authority citation for part 118 continues to read as follows:

Authority: 33 U.S.C. 494; 14 U.S.C. 85, 633; Department of Homeland Security Delegation No. 0170.1.

§ 118.3 [Amended]

99. In § 118.3(b), following the words “Coast Guard Headquarters,”, remove the word “Administrator” and add, in its place, the word “Chief”.

PART 133—OIL SPILL LIABILITY TRUST FUND; STATE ACCESS

100. The authority citation for part 133 continues to read as follows:

Authority: 33 U.S.C. 2712(a)(1)(B), 2712(d) and 2712(e); Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p. 166; Department of Homeland Security Delegation No. 0170.1, para. 2(80).

101. Amend § 133.5 as follows:

a. In paragraph (b), following the words “the State official”, remove the word “shall” and add, in its place, the word “will”; and

b. Revise paragraph (c) to read as follows:

§ 133.5 Requests: General.

* * * * *

(c) The Federal Grant and Cooperative Agreement Act of 1977 (31 U.S.C. 6301-6308), 2 CFR part 3000, 6 CFR part 9, and 49 CFR parts 18 and 90, apply to Fund monies obligated for payment under this part.

PART 136—OIL SPILL LIABILITY TRUST FUND; CLAIMS PROCEDURES; DESIGNATION OF SOURCE; AND ADVERTISEMENT

102. The authority citation for part 136 continues to read as follows:

Authority: 33 U.S.C. 2713(e) and 2714; Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p.166; Department of Homeland Security Delegation No. 0170.1, para. 2(80).

§ 136.9 [Amended]

103. In § 136.9, following the text “as implemented in”, remove the text “49 CFR part 31” and add, in its place, the text, “6 CFR part 13”.

PART 138—FINANCIAL RESPONSIBILITY FOR WATER POLLUTION (VESSELS) AND OPA 90 LIMITS OF LIABILITY (VESSELS AND DEEPWATER PORTS)

104. The authority citation for part 138 continues to read as follows:

Authority: 33 U.S.C. 2704; 33 U.S.C. 2716, 2716a; 42 U.S.C. 9608, 9609; Sec. 1512 of the Homeland Security Act of 2002, Public Law 107-296, Title XV, Nov. 25, 2002, 116 Stat. 2310 (6 U.S.C. 552(d)); E.O. 12580, Sec. 7(b), 3 CFR, 1987 Comp., p. 198; E.O. 12777, Sec. 5, 3 CFR, 1991 Comp., p. 351, as amended by E.O. 13286, 68 FR 10619, 3 CFR, 2004 Comp., p.166; Department of Homeland Security Delegation Nos. 0170.1 and 5110. Section 138.30 also issued under the authority of 46 U.S.C. 2103 and 14302.

§ 138.45 [Amended]

105. In § 138.45(a), following the text “20598-7100, telephone”, remove the text “(202) 493-6780, Telefax (202) 493-6781” and add, in its place, the text “202-872-6130, fax 703-872-6123”.

PART 148—DEEPWATER PORTS: GENERAL

106. The authority citation for part 148 continues to read as follows:

Authority: 33 U.S.C. 1504; Department of Homeland Security Delegation No. 0170.1 (75).

§ 148.1 [Amended]

107. In § 148.1, remove the text “(33 U.S.C. 1501-1524)” and add, in its place, the text “(codified at 33 U.S.C. 1501 et seq. )”.

§ 148.3 [Amended]

108. Amend § 148.3 as follows:

a. In paragraph (a), remove the text “the Maritime Administration (MARAD)” and add, in its place, the text “MARAD”;

b. In paragraph (b), following the text “fees charged by”, remove the text “adjacent coastal” and add, in its place, the text “Adjacent Coastal”; and

c. In paragraph (d), following the text “Ocean Energy Management”, remove the text “, Regulation and Enforcement (BOEMRE)” and add, in its place, the text “(BOEM)”.

109. In § 148.5, revise the definitions of “Act”, paragraph (3) of “Adjacent coastal State”, “Approved”, “Certifying entity or CE”, “Commandant (CG-5)”, and paragraph (4) of “Deepwater port” to read as follows:

§ 148.5 How are terms used in this subchapter defined?

* * * * *

Act means the Deepwater Port Act of 1974, as amended (codified at 33 U.S.C. 1501 et seq. ).

Adjacent Coastal State means any coastal State which:

* * * * *

(3) Is designated as an Adjacent Coastal State by MARAD under 33 U.S.C. 1508(a)(2).

* * * * *

Approved means approved by the Commandant (CG-5P).

* * * * *

Certifying entity or CE means any individual or organization, other than the operator, permitted by the Commandant (CG-5P) to act on behalf of the Coast Guard pursuant to section 148.8 of this subpart. The activities may include reviewing plans and calculations for construction of deepwater ports, conducting inspections, witnessing tests, and certifying systems and/or components associated with deepwater ports as safe and suitable for their intended purpose.

* * * * *

Commandant (CG-5P) means the Assistant Commandant for Prevention, or that individual's authorized representative, at Commandant (CG-5P), U.S. Coast Guard, 2100 Second Street SW., Washington, DC 20593-0001.

* * * * *

Deepwater port:

* * * * *

(4) Must be considered a “new source” for purposes of the Clean Air Act, as amended (codified at 42 U.S.C. 7401 et seq.), and the Federal Water Pollution Control Act, as amended (codified at 33 U.S.C. 1251 et seq.).

* * * * *

§ 148.8 [Amended]

110. Amend § 148.8 as follows:

a. In paragraph (b)(6) following the words “be associated with”, remove the word “its” and add, in its place, the words “the CE's”; and

b. In paragraph (c) remove the text “(CG-5)” wherever it appears, and add, in its place the text “(CG-5P)”.

111. In § 148.105—

a. In paragraph (f), following the text “use of the”, add the word “deepwater”;

b. In paragraph (g)(2)(iii), following the text “removal of all”, add the word “deepwater”;

c. In paragraph (k)(1), remove the text “OCS” and add, in its place, the text “Outer Continental Shelf”;

d. In paragraph (s) introductory text, remove the text “OCS” and add, in its place, the text “Outer Continental Shelf”;

e. In paragraph (t)(7), following the text “connect to the”, add the text “deepwater”;

f. In paragraph (u)(2), following the text “served by the”, add the text “deepwater”; and

g. Revise paragraphs (m)(1)(ii), (o), and (x) to read as follows:

§ 148.105 What must I include in my application?

* * * * *

(m) * * *

(1) * * *

(ii) Recommended ships' routing measures and proposed vessel traffic patterns in the deepwater port area, including aids to navigation; and

* * * * *

(o) Archeological information. An analysis of the information from the reconnaissance hydrographic survey by a qualified underwater archeologist to determine the historical or other significance of the area where the site evaluation and pre-construction testing activities were conducted. The analysis must meet standards established by the Bureau of Ocean Energy Management (BOEM) for activities on the Outer Continental Shelf, or an alternative standard that has been submitted to and approved by the Coast Guard. The survey must include the areas potentially affected by the deepwater port, or any other associated platforms, and its pipeline routes.

* * * * *

(x) Operations manual. A draft of the operations manual for the proposed deepwater port, containing the information under § 150.15 of this subchapter, must demonstrate the applicant's ability to operate the deepwater port safely and effectively. To the extent that circumstances are similar, this demonstration can be in the form of evidence appended to the draft operations manual of the applicant's participation in the safe and effective management or operation of other offshore facilities, for example, evidence of compliance with BOEM requirements for those facilities. If the information required for the manual is not available, state why it is not and when it will be available.

* * * * *

§ 148.107 [Amended]

112. Amend § 148.107 as follows:

a. In paragraph (a), remove the text “(CG-5)” and add, in its place, the text “(CG-5P)”; and following the text “or other information”, remove the text “he or she” and add, in its place, the text, “the Commandant (CG-5P)”; and

b. In paragraphs (b), (c), and (c)(1) through (c)(3), remove the text “(CG-5)” wherever it appears, and add, in its place, the text “(CG-5P)”.

§ 148.108 [Amended]

113. In § 148.108 paragraphs (c), (d), and (e), remove the text “(CG-5)” wherever it appears, and add, in its place, the text “(CG-5P)”.

§ 148.110 [Amended]

114. Amend § 148.110 as follows:

a. In paragraph (a) remove the text “(CG-5)” and add, in its place, the text “(CG-5P)”; and following the words “requirements contained in this”, remove the word “rule” and add, in its place, the word “part”; and

b. In paragraph (b)(3)(i), following the text “required by § 148.115(a)”, add the text “of this part”.

§ 148.115 [Amended]

115. Amend § 148.115 as follows:

a. In paragraph (a), following the text “Commandant”, remove the text “(CG-522)” and add, in its place, the text “(CG-5P)”; and

b. In paragraph (c), following the words “over the proposed”, add the word “deepwater”.

§ 148.125 [Amended]

116. In § 148.125 paragraphs (b) and (d), following the text “Commandant”, remove the text “(CG-5)” and add, in its place, the text “(CG-5P)”.

§ 148.200 [Amended]

117. In § 148.200(b), remove the words “adjacent coastal states” and add, in their place, the words “Adjacent Coastal States”.

§ 148.205 [Amended]

118. In § 148.205 paragraph (a), paragraph (b) introductory text, and paragraph (b)(1), remove the text “(CG-5)”, and add, in its place, the text “(CG-5P)”.

§ 148.207 [Amended]

119. Amend § 148.207 as follows:

a. In paragraph (a) introductory text, following the text “under § 148.205”, add the text “of this part”; remove the text “(CG-5)” wherever it appears, and add, in its place, the text “(CG-5P)”; following the text “§ 148.5”, add the text “of this part”; and following the text “except for”, remove the punctuation “:”, and add, in its place, the punctuation “—”; and

b. In paragraph (c), following the text “electronically at the”, remove the text “Department of Transportation Docket Management System” and add, in its place, the text “Federal Docket”; following the text “System Web site at”, remove the text “http://www.dot.dms.gov” and add, in its place, the text “www.regulations.gov”; and following the text “docket number at the”, remove the text “G-PSO-5 Web site: http://www.uscg.mil/hq/g-m/mso/mso5.htm.” and add, in its place, the text, “CG-OES-4 Web site: http://www.uscg.mil/hq/cg5/cg522/cg5225.”

§ 148.209 [Amended]

120. Amend § 148.209 as follows:

a. In the introductory paragraph, remove the text “(CG-5)” wherever it appears, and add, in its place, the text “(CG-5P)”; following the text “cooperation with”, remove the text “the Maritime Administrator” and add, in its place, the text “MARAD”; following the text “each application and”, remove the text “the Maritime Administration”, and add, in its place, the text “MARAD”; and following the text “of the application to”, remove the punctuation “:”, and add, in its place, the punctuation “—”; and

b. In paragraph (b), remove the text “adjacent coastal” and add, in its place, the text “Adjacent Coastal”; and remove the text “those States” and add, in its place, the text “those Adjacent Coastal States”.

§ 148.213 [Amended]

121. In § 148.213, following the text “to the Commandant”, remove the text “(CG-5)” and add, in its place, the text “(CG-5P)”.

§ 148.215 [Amended]

122. In § 148.215(b), following the text “to the Commandant”, remove the text “(CG-5)” and add, in its place, the text “(CG-5P)”.

§ 148.217 [Amended]

123. Amend § 148.217 as follows:

a. In the section heading of § 148.217, remove the words “adjacent coastal” and add, in their place, the words “Adjacent Coastal”;

b. In paragraph (a), remove the word “coastal” wherever it appears, and add, in its place, the word “Coastal”; and following the words “named as an”, remove the word “adjacent” and add, in its place, the word “Adjacent”;

c. In paragraphs (b)(1), (c), and (d), remove the text “(CG-5)” wherever it appears, and add, in its place, the text “(CG-5P)”; and

d. In paragraph (d), following the words “be considered an”, remove the words “adjacent coastal” and add, in their place, the words “Adjacent Coastal”.

§ 148.221 [Amended]

124. In § 148.221 paragraphs (b), (c), and (d), remove the text “(CG-5)” and add, in its place, the text “(CG-5P)”.

§ 148.222 [Amended]

125. In § 148.222 paragraphs (a) and (b), remove the text “adjacent coastal” wherever it appears, and add, in its place, the text “Adjacent Coastal”.

§ 148.227 [Amended]

126. In § 148.227(a), remove the text “(CG-5)” and add, in its place, the text “(CG-5P)”.

§ 148.228 [Amended]

127. In § 148.228 paragraphs (a), (b), and (c), remove the text “(G-PSO)” wherever it appears, and add, in its place, the text “(CG-5P)”.

§ 148.230 [Amended]

128. In § 148.230(a), remove the text “(CG-5)” and add, in its place, the text “(CG-5P)”.

§ 148.232 [Amended]

129. In § 148.232 paragraphs (a) and (b), remove the text “(CG-5)” wherever it appears and add, in its place, the text “(CG-5P)”.

§ 148.234 [Amended]

130. In § 148.234(b), remove the text “(CG-5)” and add, in its place, the text “(CG-5P)”.

§ 148.236 [Amended]

131. In § 148.236(j), remove the text “(CG-5)” and add, in its place, the text “(CG-5P)”.

§ 148.238 [Amended]

132. In § 148.238(b), remove the text “(CG-5)” and add, in its place, the text “(CG-5P)”.

§ 148.240 [Amended]

133. Amend § 148.240 as follows:

a. In paragraph (a), remove the words “adjacent coastal” and add, in their place, the words “Adjacent Coastal”; and

b. In paragraph (f), remove the text “(CG-5)” and add, in its place, the text “(CG-5P)”.

§ 148.250 [Amended]

134. In § 148.250(b), remove the text “(CG-5)” and add, in its place, the text “(CG-5P)”.

§ 148.252 [Amended]

135. In § 148.252(i), remove the text “(CG-5)” and add, in its place, the text “(CG-5P)”.

§ 148.256 [Amended]

136. In § 148.256, remove the text “(CG-5)” and add, in its place, the text “(CG-5P)”.

§ 148.276 [Amended]

137. Amend § 148.276 as follows:

a. In paragraph (a) following the text “33 U.S.C. 1504, the”, remove the text “Deepwater Port”;

b. In paragraph (b) following the words “hearings in each”, remove the word “adjacent” and add, in its place, “Adjacent”;

c. In paragraph (c) following the text “MARAD issues a”, remove the text “record of decision” and add, in its place, the text “Record of Decision”; and following the words “decommissioning of the”, add the word “deepwater”.

§ 148.277 [Amended]

138. Amend § 148.277 as follows:

a. In paragraph (a), following the text “Under § 148.209”, add the text “of this part”; and following the text “Federal agencies and”, remove the text “adjacent coastal” and add, in its place, the text “Adjacent Coastal”; and

b. In paragraph (b), following the text “Federal agencies and”, remove the text “adjacent coastal” and add, in its place, the text “Adjacent Coastal”; following the text “Commandant” remove the text “(CG-5)” wherever it appears, and add, in its place, the text “(CG-5P)”; and following the text “in § 148.276(b)”, add the text “of this part”.

§ 148.281 [Amended]

139. Amend § 148.281 as follows:

a. In paragraph (a)(1), remove the words “adjacent coastal” and add, in their place, the words “Adjacent Coastal”;

b. In paragraph (b) introductory text, following the words “determines that that”, add the word “deepwater”; and

c. In paragraph (b)(3), following the words “operation of the”, add the word “deepwater”.

§ 148.283 [Amended]

140. Amend § 148.283 as follows:

a. In the introductory paragraph, remove the text “(CG-5)” wherever it appears, and add, in its place, the text “(CG-5P)”; and

b. In paragraph (b), remove the text “(CG-5)” wherever it appears, and add, in its place, the text “(CG-5P)”; and following the text “as per § 148.107”, add the text “of this part”.

§ 148.305 [Amended]

141. In § 148.305, following the words “licensee and the”, add the word “deepwater”; following the words “or of another” remove the word “agency” and add, in its place, the word “agency's”; remove the text “Deepwater Ports Act of 1974, as amended,” and add, in its place, the text “Act,”; and following the words “that implement”, remove the word “that” and add, in its place, the word “the”.

142. Revise § 148.307 to read as follows:

§ 148.307 Who may consult with the Commandant (CG-5P) and MARAD on developing the proposed conditions of a license?

Federal agencies, the Adjacent Coastal States, and the owner of the deepwater port may consult with the Commandant (CG-5P) and MARAD on the conditions of the license being developed under 33 U.S.C. 1503(e).

§ 148.315 [Amended]

143. In § 148.315(b), remove the text “(CG-5)”, and add, in its place, the text “(CG-5P)”.

144. Revise § 148.325 to read as follows:

§ 148.325 How soon after deepwater port decommissioning must the licensee initiate removal?

Within 2 years of deepwater port decommissioning, the licensee must initiate removal procedures. The Commandant (CG-5P) will advise and coordinate with appropriate Federal agencies and the States concerning activities covered by this section.

§ 148.400 [Amended]

145. Amend § 148.400 as follows:

a. In paragraph (a)(2), remove the text “OCS” and add, in its place, the text, “Outer Continental Shelf”; and

b. In paragraph (b)(3), following the text “under § 148.105”, add the text “of this part”.

§ 148.405 [Amended]

146. In the section heading and in paragraph (a) of § 148.405, remove the text “(CG-5)” wherever it appears, and add, in its place, the text “(CG-5P)”.

§ 148.410 [Amended]

147. In § 148.410(b), following the text “under § 148.400(a)”, add the text “of this part”.

§ 148.415 [Amended]

148. Amend § 148.415 as follows:

a. In paragraphs (a) introductory text, (b) introductory text, and (b)(6), remove the text “(CG-5)” wherever it appears, and add, in its place, the text “(CG-5P)”; and

b. In paragraph (a)(3), following the text “uses of the”, remove the text “OCS” and add, in its place, the text “Outer Continental Shelf”.

§ 148.420 [Amended]

149. In § 148.420, including its section heading, remove the text “(CG-5)” wherever it appears, and add, in its place, the text “(CG-5P)”.

§ 148.505 [Amended]

150. In § 148.505 paragraphs (b) and (c), remove the text “(CG-5)” wherever it appears, and add, in its place, the text “(CG-5P)”.

§ 148.510 [Amended]

151. Amend § 148.510, including its section heading, by removing the text “adjacent coastal”, and adding, in its place, the text “Adjacent Coastal”; and following the text “State, the Commandant” remove the text “(CG-5)” and add, in its place, the text “(CG-5P)”.

§ 148.515 [Amended]

152. Amend the introductory text of § 148.515 by removing the text “(CG-5)” and add, in its place, the text “(CG-5P)”.

§ 148.605 [Amended]

153. In § 148.605(b), remove the text “(CG-5)” and add, in its place, the text “(CG-5P)”.

§ 148.700 [Amended]

154. Amend § 148.700 as follows:

a. In paragraph (b), following the words “to operate the”, add the word “deepwater”;

b. In paragraph (c)(3), remove the text “The Mineral Management Service (MMS)” and add, in its place, the text “The Bureau of Ocean Energy Management (BOEM)”; and

c. In paragraph (c)(4), remove the text “(MMS)” and add, in its place, the text “BOEM”.

§ 148.702 [Amended]

155. Amend § 148.702 as follows:

a. In the introductory text, remove the text “(CG-5)” and add, in its place, the text “(CG-5P)”;

b. In paragraph (b), following the text “Security Directive”, remove the text “5100.1” and add, in its place, the text “023-01”; and

c. In paragraph (c), following the text “Commandant Instruction” remove the text “M16475.1D” and add, in its place, the text “M16475.1 (series)”.

§ 148.705 [Amended]

156. Amend § 148.705 as follows:

a. In paragraph (b)(1), remove the text “fabrication,”;

b. In paragraph (b)(2), following the words “that serve the”, add the word “deepwater”;

c. In paragraph (b)(3), remove the text “The port's” and add, in its place, the text “The deepwater port's”; and

d. In paragraph (c), remove the text “§ 148.707” and add, in its place, the text “§ 148.705”.

§ 148.707 [Amended]

157. In § 148.707(a), following the words “effects on the”, add the word “deepwater”.

§ 148.709 [Amended]

158. In § 148.709, remove the text “(CG-5)” and add, in its place, the text “(CG-5P)”; and following the text “in accordance with”, remove the text “§ 148.700” and add, in its place, the text “§ 148.705”.

§ 148.710 [Amended]

159. Amend § 148.710 as follows:

a. In paragraph (a)(1), following the words “property on the”, add the word “deepwater”; and following the words “crews calling at the”, add the word “deepwater”;

b. In paragraph (a)(2), following the text “port will be”, remove the text “fabricated,”;

c. In paragraph (b), following the text “33 U.S.C. 1504(f), these criteria” add the text “in § 148.707 of this part”; and

d. In paragraph (c), remove the text “(CG-5)” and add, in its place, the text “(CG-5P)”.

§ 148.720 [Amended]

160. In § 148.720 paragraphs (h) and (k), remove the word “port” wherever it appears, and add, in its place the words “deepwater port”.

§ 148.722 [Amended]

161. In § 148.722 following the text “§ 148.730”, add the text “of this part”.

§ 148.725 [Amended]

162. In § 148.725 introductory paragraph, following the text “In accordance with”, remove the text “§ 148.720(b),” and add, in its place, the text “§ 148.715(b) of this part,”.

§ 148.730 [Amended]

163. Amend § 148.730 as follows:

a. In the introductory text, following the text “§ 148.715(b)”, add the text “of this part”; and

b. In paragraph (a), following the words “for any designated”, remove the words “adjacent coastal”, and add, in their place, the words “Adjacent Coastal”.

§ 148.735 [Amended]

164. In § 148.735 introductory text, following the text “§ 148.715(b)”, add the text “of this part”.

§ 148.737 [Amended]

165. In § 148.737 introductory text, following the words “a deepwater port, the”, add the word “deepwater”.

PART 149—DEEPWATER PORTS: DESIGN, CONSTRUCTION, AND EQUIPMENT

166. The authority citation for part 149 continues to read as follows:

Authority: 33 U.S.C. 1504; Department of Homeland Security Delegation No. 0170.1 (75).

§ 149.5 [Amended]

167. In the definition of “Major conversion” in § 149.5, remove the text “(CG-5)”, and add, in its place, the text “(CG-5P)”.

168. Revise § 149.10 to read as follows:

§ 149.10 Where can the operator obtain a list of Coast Guard-approved equipment?

Where equipment in this subchapter must be of an approved type, the equipment must be specifically approved by the Commandant (CG-5P) and the Coast Guard Marine Safety Center. A list of approved equipment, including all of the approval series, is available at: http://cgmix.uscg.mil/Equipment/Default.aspx.

169. Amend § 149.103 as follows:

a. Revise paragraph (a) to read as follows; and

b. In paragraph (b), following the words “removal equipment for”, add the word “deepwater”.

§ 149.103 What are the requirements for discharge containment and removal material and equipment?

(a) Each deepwater port must have a facility response plan that meets the requirements outlined in part 154, subpart F, of this chapter, and be approved by the cognizant Sector Commander, or MSU Commander with COTP and OCMI authority.

* * * * *

§ 149.125 [Amended]

170. In § 149.125(c), remove the text “(CG-5)” and add, in its place, the text “(CG-5P)”.

§ 149.140 [Amended]

171. Amend § 149.140 as follows:

a. In paragraph (a)(1), following the words “at the” wherever they appear, add the word “deepwater”; and

b. In paragraph (b), following the words “at an unmanned”, add the word “deepwater”.

§ 149.145 [Amended]

172. In § 149.145 following the words “according to the”, add the word “deepwater”.

§ 149.301 [Amended]

173. In § 149.301—

a. In paragraph (a), before the words “Each deepwater”, add the words “Manned Deepwater Port.”; and

b. In paragraph (b), before the words “Each deepwater”, add the words “Unmanned Deepwater Port.”.

§ 149.303 [Amended]

174. In § 149.303 paragraphs (a)(1), (a)(2), and (b), remove the words “this subpart”, and add, in their place, the words “this part”.

§ 149.304 [Amended]

175. Amend § 149.304 as follows:

a. In paragraph (a) introductory text, and paragraphs (a)(4) and (a)(5), remove the word “subpart” and add, in its place, the word “part”; and

b. In paragraph (b), remove the text “(CG-5)” and add, in its place, the text “(CG-5P)”.

§ 149.305 [Amended]

176. Amend § 149.305 as follows:

a. In paragraphs (a) and (b), remove the word “subpart” and add, in its place, the word “part”; and

b. In paragraph (a), following the text “this subpart, the”, add the text “deepwater”.

§ 149.313 [Amended]

177. In § 149.313 introductory text, following the text “§ 108.530 and”, add the text “so that they—”.

§ 149.315 [Amended]

178. In § 149.315(c), following the text “requirements of § 149.310”, add the text “of this part”.

§ 149.318 [Amended]

179. Amend § 149.318 as follows:

a. In the section heading, remove the word “port” and add, in its place, the words “deepwater port”; and

b. Following the text “§ 149.318 of this”, remove the text “subpart” and add, in its place, the text “part”.

180. Revise § 149.319 to read as follows:

§ 149.319 What additional lifejackets must the deepwater port have?

For each person on duty in a location where the lifejacket required by § 149.317 of this part is not readily accessible, an additional lifejacket must be stowed so as to be readily accessible to that location.

§ 149.322 [Amended]

181. In § 149.322(a), following the words “each side of the”, add the word “deepwater”.

§ 149.325 [Amended]

182. In § 149.325, following the text “outlined in § 149.140”, add the text, “of this part”.

§ 149.330 [Amended]

183. In § 149.330(a), following the text “§ 149.326 of this”, remove the text “subpart” and add, in its place, the text “part”.

§ 149.336 [Amended]

184. In § 149.336 paragraph (a) following the text “Except as”, remove the text “under” and add, in its place, the text “provided in”; following the text “§ 149.316 of this”, remove the text “subpart” and add, in its place, the text “part”; and following the words “use on the”, add the word “deepwater”.

§ 149.337 [Amended]

185. Amend § 149.337 as follows:

a. In paragraph (a), following the text “§ 149.320 to this”, remove the text “subpart” and add, in its place, the text “part”; and

b. In paragraph (b), following the words “persons are on the”, add the word “deepwater”.

§ 149.340 [Amended]

186. In § 149.340, remove the text “(CG-5)” and add, in its place, the text “(CG-5P)”.

§ 149.400 [Amended]

187. In § 149.400, following the words “except unmanned”, add the word “deepwater”.

§ 149.402 [Amended]

188. In § 149.402, following the text “or § 149.420”, add the text, “of this part”; and remove the text “Commandant (CG-PSE)” wherever it appears, and add, in its place, the text “Commandant (CG-ENG)”.

§ 149.403 [Amended]

189. Amend § 149.403 as follows:

a. In paragraphs (b), (c), and (d), remove the text “OCMI” wherever it appears, and add, in its place, the text “Sector Commander, or MSU Commander with COTP and OCMI authority,”; and

b. In paragraph (d), remove the text “Commandant (CG-PSE)” and add, in its place, the text “Commandant (CG-ENG)”.

§ 149.404 [Amended]

190. In § 149.404, following the text “pursuant to § 149.403”, add the text “of this part”; and following the text “not endanger the”, add the text “deepwater”.

§ 149.405 [Amended]

191. In § 149.405(c), following the text “set forth in table 149.405”, add the following text “of this section”.

§ 149.407 [Amended]

192. In § 149.407(a), following the text “§ 149.409 of this”, remove the text “subpart” and add, in its place, the text “part”.

§ 149.409 [Amended]

193. In the introductory text of § 149.409, following the text “extinguishers required by”, remove the text “table 149.409”, and add, in its place, the text “Table 149.409 of this section”.

§ 149.410 [Amended]

194. In § 149.410, following the text “fire extinguishers described in”, remove the text “table 149.409” and add, in its place, the text “Table 149.409 of this part”.

§ 149.411 [Amended]

195. In § 149.411(b)(2), following the words “than one outfit”, remove the word “shall” and add, in its place, the word “must”.

§ 149.415 [Amended]

196. In § 149.415(b)(4), remove the word “port”, and add, in its place, the words “deepwater port”.

§ 149.417(b) [Amended]

197. In § 149.417(b), remove the text “table 149.409”, and add, in its place, the text, “Table 149.409 of this part”.

§ 149.418 [Amended]

198. In § 149.418, remove the text “table 149.409”, and add, in its place, the text “Table 149.409 of this part”.

§ 149.419 [Amended]

199. Amend § 149.419 as follows:

a. In paragraph (a) introductory text, following the text “or § 149.421”, add the text “of this part”;

b. In paragraph (a)(1), remove the text “Mineral Management Service”, and add, in its place, the text “Bureau of Ocean Energy Management”; and

c. In paragraph (a)(2), following the text “under § 149.415”, add the text “of this part”.

§ 149.505 [Amended]

200. In § 149.505(a), following the text “under § 149.510”, add the text “of this part”.

§ 149.510 [Amended]

201. In § 149.510(a), remove the text “(CG-5)” and add, in its place, the text “(CG-5P)”.

§ 149.570 [Amended]

202. In 149.570(c), following the text “with § 149.540”, add the text “of this part”.

§ 149.615 [Amended]

203. In § 149.615(a) introductory text, remove the text “(CG-5)” and add, in its place, the text “(CG-5P)”.

§ 149.620 [Amended]

204. In § 149.620, amend the section heading, paragraphs (a), (b), and (d), by removing the text “(CG-5)” everywhere it appears, and adding, in its place, the text “(CG-5P)”.

§ 149.625 [Amended]

205. Amend § 149.625 as follows:

a. In paragraph (a), following the text “elsewhere in this subpart”, remove the text “(for example, single point moorings, hoses, and aids to navigation buoys)”; following the words “both on the”, add the word “deepwater”; and following the words “or servicing the”, add the word “deepwater”; and

b. In paragraph (b), remove the text “(CG-5)” and add, in its place, the text “(CG-5P)”; and following the words “and construction of” add the word “deepwater”.

§ 149.640 [Amended]

206. In § 149.640 following the text “undergo major conversions”, add the punctuation “,”; and remove the word “subpart”, and add, in its place, the word “part”.

§ 149.641 [Amended]

207. Amend § 149.641 as follows:

a. In paragraph (b) introductory text, remove the words “This requirement” and add, in its place, the words “The requirement in paragraph (a) of this section”;

b. In paragraph (b)(1), following the text “the hydrocarbon source”, remove the text “(e.g., LNG flanges, send out line, etc.)”;

c. In paragraph (c) introductory text, following the text “section, the requirement”, remove the text “imposed by” and add, in its place, the text “in paragraph (a) of”; and

d. In paragraph (c)(1), following the text “and modules on”, add the text “deepwater”.

§ 149.660 [Amended]

208. Amend § 149.660 as follows:

a. In paragraph (a) introductory text, following the words “power equipment including”, add the word “a”; and following the words “equipment, and”, add the word “a”; and

b. In paragraph (b)(2), following the text “emergency power (”, remove the text “in other words” and add, in its place, the text “i.e.”.

§ 149.670 [Amended]

209. In § 149.670(b), following the text “§ 149.665”, add the text “of this part”.

§ 149.675 [Amended]

210. In § 149.675(b), following the words “connected to the”, add the word “deepwater”.

§ 149.680 [Amended]

211. In § 149.680 introductory text, following the text “room that has”, remove the punctuation “:”, and add, in its place, the punctuation “—”.

§ 149.690 [Amended]

212. In § 149.690 following the text “through 149.699”, add the text “of this part”.

§ 149.691 [Amended]

213. Amend § 149.691 as follows:

a. In paragraph (a)(2), following the words “in evacuating the”, add the word “deepwater”; and

b. In paragraph (c)(2), following the text “determined by the”, remove the text “Officer in Charge of Marine Inspection (OCMI)” and add, in its place, the text, “Sector Commander, or MSU Commander with COTP and OCMI authority”.

§ 149.692 [Amended]

214. Amend § 149.692 as follows:

a. In paragraphs (d) and (f), remove the text “OCMI”, and add, in its place, the text “Sector Commander, or MSU Commander with COTP and OCMI authority”; and

b. In paragraph (e), following the words “deepwater port, the”, add the word “deepwater”.

PART 150—DEEPWATER PORTS: OPERATIONS

215. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

§ 150.10 [Amended]

216. Amend § 150.10 as follows:

a. In paragraph (a), following the words “conducted at the”, add the word “deepwater”; and following the text “in § 150.15”, add the text “of this part”;

b. In paragraph (b), remove the text “(CG-5)” and add, in its place, the text “(CG-5P)”; and following the text “consult with the local”, remove the text “Officer in Charge of Marine Inspection (OCMI)” and add, in its place, the text “Sector Commander, or MSU Commander, with COTP and OCMI authority”; and

c. In paragraph (c), remove the text “The OCMI” and add, in its place, the text “The Sector Commander, or MSU Commander, with COTP and OCMI authority”; and “remove the text “(CG-5)” and add, in its place, the text “(CG-5P)”.

217. In § 150.15, revise the introductory text and paragraphs (b), (c), (g), (i)(2), (i)(4)(v), (i)(4)(vi), (i)(7)(iii), (i)(7)(iv), (j) introductory text, (j)(6), (k), (l)(2)(vi), (l)(4), (o), (p) introductory text, (p)(16), (q)(1), (q)(3), (t) introductory text, (t)(4), (v), (x)(2), (x)(4), (x)(5), (y)(6), and (aa)(2) to read as follows:

§ 150.15 What must the operations manual include?

The operations manual required by § 150.10 of this part must identify the deepwater port and include the information required in this section.

* * * * *

(b) A physical description of the deepwater port.

(c) Engineering and construction information, including all defined codes and standards used for the deepwater port structure and systems. The operator must include schematics of all applicable systems. Schematics must show the location of valves, gauges, system working pressure, relief settings, monitoring systems, and other pertinent information.

* * * * *

(g) The size, type, number, and simultaneous operations of tankers that the deepwater port can handle.

* * * * *

(i) * * *

(2) The speed limits proposed for tankers in the safety zone and area to be avoided around the deepwater port.

* * * * *

(4) * * *

(v) Advisories to each tanker underway in the safety zone regarding the vessel's position, deepwater port conditions, and status of adjacent vessel traffic;

(vi) Notices that must be made, as outlined in § 150.325 of this part, by the tanker master regarding the vessel's characteristics and status; and

* * * * *

(7) * * *

(iii) Prohibition on mooring at the deepwater port or SPM; and

(iv) Shutdown of all deepwater port operations and evacuation of the deepwater port.

* * * * *

(j) Personnel. The duties, title, qualifications, and training of all deepwater port personnel responsible for managing and carrying out the following deepwater port activities and functions:

* * * * *

(6) Deepwater port security.

(k) The personnel assigned to supervisory positions must be designated, in writing, by the licensee and have the appropriate experience and training to satisfactorily perform their duties. The Commandant (CG-5P) will review and approve the qualifications for all proposed supervisory positions.

(1) * * *

(2) * * *

(vi) Supervision by a deepwater port person in charge.

* * * * *

(4) The duties, title, qualifications, and training of personnel of the deepwater port designated as the person in charge and responsible for managing cargo transfers, including ballasting operations if applicable to the deepwater port, in accordance with subpart D of part 154 for oil, and subpart B (Operations) of part 127 for natural gas, respectively, of this chapter.

* * * * *

(o) A waste management plan comparable to § 151.57 of this chapter.

(p) Occupational health and safety training procedures. Policy and procedures to address occupational health and safety requirements outlined in §§ 150.600 to 150.632 of this part, including:

* * * * *

(16) Initial and periodic training and certification to be documented for each deepwater port employee and for visitors, where appropriate; for example, safety orientation training.

(q) * * *

(1) Names and numbers of key deepwater port personnel;

* * * * *

(3) Names and numbers of persons in charge of any Outer Continental Shelf facility that, due to close proximity, could be affected by an incident at the deepwater port.

* * * * *

(t) Deepwater port response procedures for:

* * * * *

(4) Terrorist activity, as described in the deepwater port security plan.

* * * * *

(v) Designation of and assignment of deepwater port personnel to response teams for specific contingencies.

* * * * *

(x) * * *

(2) Monitoring and alerting of vessels that approach or enter the deepwater port's security zone;

* * * * *

(4) Internal and external notification and response requirements in the event of a perceived threat or an attack on the deepwater port;

(5) Designation of the deepwater port security officer;

* * * * *

(y) * * *

(6) Contingency response for events that could affect nearby existing Outer Continental Shelf oil and gas facilities, such as explosions, fires, or product spills.

* * * * *

(aa) * * *

(2) A routine re-examination, not less than once every 5 years, of the physical, chemical, and biological factors contained in the deepwater port's environmental impact analysis and baseline study submitted with the license application; and

* * * * *

§ 150.20 [Amended]

218. In § 150.20, following the text “governed by § 148.115”, add the text “of this chapter”; and remove the text “Commandant (CG-5)” and add, in its place, the text “Commandant (CG-5P)”.

§ 150.25 [Amended]

219. Amend § 150.25 as follows:

a. In paragraph (a), remove the text “Captain of the Port (COTP)” and add, in its place, the text, “Sector Commander, or MSU Commander, with COTP and OCMI authority”;

b. In paragraphs (c), (d), and (e), remove the text “COTP” wherever it appears, and add, in its place, the text “Sector Commander, or MSU Commander, with COTP and OCMI authority”;

c. In paragraph (e), remove the text “(CG-5)” wherever it appears, and add, in its place, the text “(CG-5P)”; and

d. In paragraph (f), following the text “If the”, remove the text “COTP” and add, in its place, the text “Sector Commander, or MSU Commander, with COTP and OCMI authority”; following the text “property, the” remove the text “COTP” and add, in its place, the text “he or she”; and following the text “receives it. The” remove the text “COTP” and add, in its place, the text, “Sector Commander, or MSU Commander, with COTP and OCMI authority”.

§ 150.30 [Amended]

220. Amend § 150.30 as follows:

a. In paragraph (a)(1), remove the text “to the Captain of the Port (COTP)”; and following the text “By submitting”, add the text “to the Sector Commander, or to the MSU Commander, with COTP and OCMI authority”; and

b. In paragraphs (a)(2) and (b), remove the text “COTP” wherever it appears, and add, in its place, the text “Sector Commander, or MSU Commander, with COTP and OCMI authority”.

221. Revise § 150.35 to read as follows:

§ 150.35 How may an Adjacent Coastal State request an amendment to the deepwater port operations manual?

(a) An Adjacent Coastal State connected by pipeline to the deepwater port may petition the cognizant Sector Commander, or MSU Commander, with COTP and OCMI authority to amend the operations manual. The petition must include sufficient information to allow the Sector Commander, or MSU Commander, with COTP and OCMI authority to reach a decision concerning the proposed amendment.

(b) After the Sector Commander, or MSU Commander, with COTP and OCMI authority receives a petition, the Sector Commander, or MSU Commander, with COTP and OCMI authority requests comments from the licensee.

(c) After reviewing the petition and comments, and considering the costs and benefits involved, the Sector Commander, or MSU Commander, with COTP and OCMI authority may approve the petition if the proposed amendment will provide equivalent or improved protection and safety. The Adjacent Coastal State may petition the Commandant (CG-5P) to review the decision. Petitions must be made in writing and presented to the Sector Commander, or MSU Commander, with COTP and OCMI authority for forwarding to the Commandant (CG-5P) via the District Commander.

§ 150.45 [Amended]

222. In § 150.45, following the text “reported to the”, remove the text “Captain of the Port (COTP)” and add, in its place, the text “Sector Commander, or MSU Commander, with COTP and OCMI authority,”.

§ 150.50 [Amended]

223. Amend § 150.50 as follows:

a. In paragraph (a), following the text “approved by the”, remove the text “Captain of the Port (COTP)” and add, in its place, the text “Sector Commander, or MSU Commander, with COTP and OCMI authority”; and

b. In paragraph (c), following the text “submitted to the”, remove the text “COTP” and add, in its place, the text “Sector Commander, or MSU Commander, with COTP and OCMI authority”.

§ 150.100 [Amended]

224. In § 150.100, following the text “direction of the”, remove the text “Officer in Charge of Marine Inspection (OCMI)” and add, in its place, the text “Sector Commander, or to the MSU Commander, with COTP and OCMI authority”; and following the text “any time the”, remove the text “OCMI” and add, in its place, the text “Sector Commander or MSU Commander.”

§ 150.105 [Amended]

225. Amend § 150.105 as follows:

a. In paragraph (a) following the words “ensure that the”, remove the word “port” and add, in its place, the words “deepwater port”;

b. In paragraph (b) following the text “self-inspection to the”, remove the text “Captain of the Port (COTP)” and add, in its place, the text “Sector Commander, or to the MSU Commander, with COTP and OCMI authority”; and

c. In paragraph (c), following the text “self-inspection plan to the”, remove the text “COTP” and add, in its place, the text “Sector Commander, or MSU Commander, with COTP and OCMI authority”.

§ 150.110 [Amended]

226. In § 150.110, remove the text “Captain of the Port” and add, in its place, the text, “Sector Commander, or MSU Commander, with COTP and OCMI duties”.

§ 150.200 [Amended]

227. Amend § 150.200, including its section heading, by removing the word “port” and adding, in its place, the words “deepwater port”.

§ 150.205 [Amended]

228. Amend the section heading of § 150.205 by removing the word “port” and adding, in its place, the words “deepwater port”.

229. Revise § 150.305 to read as follows:

§ 150.305 How does this subpart apply to unmanned deepwater ports?

The master of any tanker calling at an unmanned deepwater port is responsible for the safe navigation of the vessel to and from the deepwater port, and for the required notifications in § 150.325 of this part. Once the tanker is connected to the unmanned deepwater port, the master must maintain radar surveillance in compliance with the requirements of § 150.310 of this part.

§ 150.310 [Amended]

230. Amend § 150.310 as follows:

a. In paragraph (a), following the text “required in § 150.325”, add the text “in this part”; and

b. In paragraph (d), following the words “described in the”, add the word “deepwater”.

§ 150.325 [Amended]

231. In § 150.325(b) introductory text, following the text “required in § 150.15(i)(4)(vi)”, add the text “of this part”.

§ 150.340 [Amended]

232. In § 150.340(a), following the text “described in § 159.15(i)”, add the text “of this part”.

§ 150.380 [Amended]

233. In § 150.380(b), following the words “of this section,” remove the word “nor” and add, in its place, the word “or”; and remove the text “Captain of the Port's” and add, in its place, the text “Sector Commander's, or MSU Commander's, with COTP and OCMI authority”.

§ 150.425 [Amended]

234. In § 150.425 introductory text, following the words “outlined in the”, add the word “deepwater”.

§ 150.435 [Amended]

235. Amend § 150.435 as follows:

a. In paragraph (a), following the words “duty at the”, add the word “deepwater”;

b. In paragraph (b), following the words “storm in the”, add the word “deepwater”;

c. In paragraph (g), remove the text “Captain of the Port” and add, in its place, the text “Sector Commander, or MSU Commander, with COTP and OCMI authority”; and

d. In paragraph (i), remove the word “port” wherever it appears, and add, in its place, the words “deepwater port”.

236. In § 150.440, revise the section heading and paragraph (a) to read as follows:

§ 150.440 How may the Sector Commander, or MSU Commander, with COTP and OCMI authority order suspension of cargo transfers?

(a) In case of emergency, the Sector Commander, or MSU Commander, with COTP and OCMI authority may order the suspension of cargo transfers at a deepwater port to prevent the discharge, or threat of discharge, of oil or natural gas, or to protect the safety of life and property.

* * * * *

§ 150.445 [Amended]

237. In § 150.445(b), following the text “demonstrate to the”, remove the text “Officer in Charge of Marine Inspection” and add, in its place, the text, “Sector Commander, or MSU Commander, with COTP and OCMI authority”.

§ 150.501 [Amended]

238. In § 150.501, following the words “according to the”, add the word “deepwater”.

§ 150.502 [Amended]

239. Amend § 150.502 as follows:

a. In paragraph (a)(2), following the text “required under § 150.513”, add the text “of this part”;

b. In paragraph (d), remove the text “Officer in Charge of Marine Inspection (OCMI)” and add, in its place, the text “Sector Commander, or MSU Commander, with COTP and OCMI authority”; and

c. In paragraph (f), remove the text “OCMI” wherever it appears, and add, in its place, the text “Sector Commander, or MSU Commander, with COTP and OCMI authority”.

§ 150.511 [Amended]

240. In § 150.511(c), remove the text “The Officer in Charge of Marine Inspection” and add, in its place, the text “The Sector Commander, or MSU Commander, with COTP and OCMI authority”.

§ 150.517 [Amended]

241. In § 150.517(b), remove the text “Officer in Charge of Marine Inspection” and add, in its place, the text “Sector Commander, or MSU Commander, with COTP and OCMI authority”.

§ 150.521 [Amended]

242. In § 150.521(a), following the text “inspection under § 150.520”, add the text “of this part”.

§ 150.540 [Amended]

243. In § 150.540, remove the text “Captain of the Port's” and add, in its place, the text “Sector Commander, or the MSU Commander with COTP and OCMI authority's”.

§ 150.602 [Amended]

244. Amend § 150.602 as follows:

a. In paragraph (a), following the words “ensure that all”, add the word “deepwater”; and following the text “outlined in § 150.15(w)”, add the text “of this part”; and

b. In paragraph (b), following the text “with the Commandant”, remove the text “(CG-5)” and add, in its place, the text “(CG-5P)”; and following the text “may consult with the”, remove the text “Officer in Charge of Marine Inspection” and add, in its place, the text “Sector Commander, or with the local MSU Commander, with COTP and OCMI authority”.

§ 150.603 [Amended]

245. In § 160.603, following the words “outlined in the”, add the word “deepwater”.

§ 150.605 [Amended]

246. In § 150.605 introductory text, remove the text “Officer in Charge of Marine Inspection” and add, in its place, the text “Sector Commander, or the MSU Commander, with COTP and OCMI authority”.

§ 150.606 [Amended]

247. Amend § 150.606 as follows:

a. In the section heading, remove the text “Officer in Charge of Marine Inspection” and add, in its place, the text “Sector Commander, or the MSU Commander, with COTP and OCMI authority”; and

b. Following the text “necessary investigation, the” remove the text “OCMI” and add, in its place, the text “Sector Commander, or the MSU Commander, with COTP and OCMI authority”.

§ 150.615 [Amended]

248. In § 150.615(b), following the text “§§ 150.616 and 150.617”, add the text “of this part”.

§ 150.616 [Amended]

249. In § 150.616 following the text “described in § 150.615(a)”, add the text “of this part”.

§ 150.623 [Amended]

250. In § 150.623(b) introductory text, following the words “deepwater port operator”, remove the word “shall” and add, in its place, the word “must”.

§ 150.625 [Amended]

251. In § 150.625(b)(7), following the text “§§ 150.616 and 150.617”, add the text “of this part”.

§ 150.805 [Amended]

252. In § 150.805, following the text “submit to the”, remove the text “Officer in Charge of Marine Inspection” and add, in its place, the text “Sector Commander, or to the MSU Commander, with COTP and OCMI authority”.

§ 150.812 [Amended]

253. In § 150.812, following the text “outlined in § 150.815”, add the text “of this part”.

§ 150.815 [Amended]

254. In § 150.815(c), following the text “information pertinent to”, remove the text “OCS” and add, in its place, the text “Outer Continental Shelf”; and following the words “regulated by the”, remove the words “Bureau of Ocean Energy Management, Regulation and Enforcement” and add, in their place, the words “Bureau of Ocean Energy Management”.

255. Revise § 150.820 as follows:

a. Revise paragraph (a) to read as follows;

b. In paragraph (c), following the text “required under § 150.815”, add the text “of this part”; and

c. Revise paragraph (d) to read as follows:

§ 150.820 When must a written report of casualty be submitted, and what must it contain?

(a) In addition to the notice of casualty under § 150.815 of this part, the owner, operator, or person in charge of a deepwater port must submit a written report of the event to the nearest Sector Commander, or the nearest MSU Commander, with COTP and OCMI authority within 5 days of the casualty notice. The report may be on Form 2692, Report of Marine Accident, Injury, or Death, or in narrative form if it contains all of the applicable information requested in Form 2692. Copies of Form 2692 are available from the Sector Commander, or from the MSU Commander, with COTP and OCMI authority.

* * * * *

(d) The operator will ensure that the written report is provided to the nearest Bureau of Ocean Energy Management (BOEM) office when the deepwater port is co-located with a BOEM-regulated facility.

§ 150.825 [Amended]

256. In § 150.825 following the text “§§ 150.815 and 150.820”, add the text “of this part”.

§ 150.835 [Amended]

257. In § 150.835, following the text “report to the”, remove the text “Captain of the Port”, and add, in its place, the text “Sector Commander, or the MSU Commander, with COTP and OCMI authority”.

§ 150.840 [Amended]

258. Amend § 150.840 as follows:

a. In paragraph (a), following the words “rather than on the”, add the word “deepwater”; and

b. In paragraph (c), following the text “under § 150.845”, add the text “of this part”.

§ 150.850 [Amended]

259. In § 150.850 following the text “required by § 150.430”, add the text “of this part”.

§ 150.905 [Amended]

260. In § 150.905(d), following the text “boating, fishing, and”, remove the text “OCS” and add, in its place, the text “Outer Continental Shelf”.

§ 150.915 [Amended]

261. In § 150.915(c), following the text “and Commandant”, remove the text “(CG-5)” and add, in its place, the text “(CG-5P)”.

§ 150.920 [Amended]

262. In § 150.920, following the words “under § 150.915”, add the text “of this part”.

§ 150.940 [Amended]

263. Amend § 150.940 as follows:

a. In paragraph (a)(1), following the text “Table 150.940(A)”, add the text “of this section”;

b. In paragraphs (a)(1)(iii) and (a)(1)(xii), and in paragraph (a)(2)(i), remove the word “port's” wherever it appears, and add, in its place, the words “deepwater port's”; and

c. In paragraph (a)(2)(ii), following the text “(SPM) at the”, add the text “deepwater”.

PART 151—VESSELS CARRYING OIL, NOXIOUS LIQUID SUBSTANCES, GARBAGE, MUNICIPAL OR COMMERCIAL WASTE, AND BALLAST WATER

264. The authority citation for part 151 continues to read as follows:

Authority: 33 U.S.C. 1321, 1902, 1903, 1908; 46 U.S.C. 6101; Pub. L. 104-227 (110 Stat. 3034); Pub. L. 108-293 (118 Stat. 1063), § 623; E.O. 12777, 3 CFR, 1991 Comp. p. 351; DHS Delegation No. 0170.1, sec. 2(77).

265. Amend § 151.05 as follows:

a. Revise the definition of “Oily mixture” to read as follows; and

b. Following the definition of “Oil tanker”, remove the second definition of “Oily mixture”.

§ 151.05 Definitions.

* * * * *

Oily mixture means a mixture, in any form, with any oil content. “Oily mixture” includes, but is not limited to—

(1) Slops from bilges;

(2) Slops from oil cargoes (such as cargo tank washings, oily waste, and oily refuse);

(3) Oil residue (sludge); and

(4) Oily ballast water from cargo or fuel oil tanks.

* * * * *

PART 164—NAVIGATION SAFETY REGULATIONS

266. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.03 [Amended]

267. In § 164.03(b) in the table under the address for “Radio Technical Commission for Maritime Services”, remove the text “655 Fifteenth Street NW., Suite 300, Washington, DC 20005” and add, in its place, the text “(RTCM), 1611 North Kent Street, Suite 605, Arlington, VA 22209”.

Dated: June 19, 2013.
Kathryn A. Sinniger,
Chief, Office of Regulations and Administrative Law, U.S. Coast Guard.

[FR Doc. 2013-15094 Filed 6-28-13; 8:45 am]

BILLING CODE 9110-04-P